DEPARTMENT OF HOUSING AND URBAN DEVELOPMENT

[Docket No. FR-5100-N-01]

Notice of HUD's Fiscal Year (FY) 2007 Notice of Funding Availability (NOFA) Policy Requirements and General Section to the FY2007 SuperNOFA for HUD's Discretionary Programs

AGENCY: Office of the Secretary, HUD.

ACTION: Notice of HUD's FY2007 NOFA Policy Requirements and General Section to the FY2007 SuperNOFA for HUD's Discretionary Programs (notice).

SUMMARY: This notice provides prospective applicants for HUD competitive funding with the opportunity to become familiar with the General Section of HUD's FY2007 SuperNOFA, in advance of publication of the FY2007 SuperNOFA. HUD plans to publish its annual SuperNOFA early in 2007. Early publication of the General Section is one of several steps instituted to improve the funding process for the grantee community. Early publication of the General Section gives prospective applicants additional time to become familiar with and address provisions in the General Section, which constitute part of almost every individual program application. HUD will publish with the SuperNOFA any changes to this General Section made after today's publication.

HUD will continue to require that applicants submit their applications electronically via Grants.gov. To submit an application via Grants.gov, new users will be required to complete a five-step registration process, which can take 2 to 4 weeks to complete. The process includes ensuring that information provided by your organization to Dun and Bradstreet (D&B) matches information previously provided by your organization and contained in Internal Revenue Service (IRS) records. If there is a discrepancy in the information, the registration cannot be completed until discrepancy issues are resolved. Applicants that are already registered have to update the information previously provided in the Central Contractor Registration (CCR). During the update process, the CCR will check the D&B information against the IRS records for your organization. If there are discrepancies, the update cannot be completed until the discrepancies are resolved. Please allow adequate time to resolve any registration issues. To submit an application to HUD, the Authorized Organization Representative (AOR) must be able to make a legally binding agreement for the organizational entity. Please see detailed registration instructions in Section IV.B. of this notice.

For FY2007, the Continuum of Care applications are the lone SuperNOFA paper applications that HUD will accept without first granting a waiver. Continuum of Care applicants should be aware that HUD intends to have the Continuum of Care applicants applying via Grants.gov no later than FY2008. Therefore, it is in the interest of Continuum of Care applicants to complete the Grants.gov registration process in anticipation of moving to electronic application submission in 2008. Continuum of Care agencies would benefit from becoming familiar with the Grants.gov filing requirements so that they do not limit their ability to apply for funding from federal sources. HUD recommends that all prospective applicants take the time to carefully read the Federal Register notice published on October 31, 2006, entitled “Notice of Opportunity to Register Early and other Important Information for Electronic Application Submission via Grants.gov” and register prior to the publication of the Program Sections of the FY2007 SuperNOFA. The early registration notice can be found on HUD's Web site at http://www.hud.gov/offices/adm/grants/fundsavail.cfm.

FOR FURTHER INFORMATION CONTACT: Office of Departmental Grants Management and Oversight, Office of Administration, Department of Housing and Urban Development, 451 Seventh Street, SW., Room 3156, Washington, DC 20410-5000; telephone number (202) 708-0667. Persons with hearing or speech impairments may access this number via TTY by calling the Federal Information Relay Service at (800) 877-8339.

SUPPLEMENTARY INFORMATION: Each year, HUD strives to improve its competitive funding process. In FY 2005, HUD successfully migrated a majority of its funding opportunities to electronic application submission. In FY 2006, over 99 percent of applicants successfully submitted applications electronically for HUD's grant programs. While a majority of HUD's applicants were able to make the transition to electronic government, HUD wants to enable all applicants to make the transition. To ease concerns, HUD has developed a Desktop User Guide for Submitting Electronic Grant Applications. The user guide provides step-by-step details and screen shots of the entire registration and application submission process, including troubleshooting application submission errors. HUD updates the guide regularly and it is available at http://www.hud.gov/offices/adm/grants/deskuserguide.pdf.

In addition, HUD's Early Registration Notice provides step-by-step instructions for applicants who must register with Grants.gov and also provides renewal instructions for those who have previously registered. The renewal instructions are simple and easy to follow, but must be completed before an applicant's registration in the CCR expires. Failure to update the registration in the CCR will require an applicant to go through the entire registration process again. As part of the CCR renewal process, CCR checks the information provided to Dun and Bradstreet (D&B) against IRS records. If a discrepancy in the information is found, the applicant must correct the discrepancy before the renewal process can be completed. Applicants are urged to check the information they provided to D&B, CCR, and the IRS to ensure consistency. HUD believes that early publication of the General Section is beneficial to prospective applicants by providing advance notice of the Department's threshold requirements, strategic goals, policy priorities, and other comprehensive requirements that are applicable to almost every individual NOFA that comprises the SuperNOFA. The General Section, as in the past, is structured to refer the reader to the individual program NOFAs. Although the program NOFAs are not being published at this time, the references are retained. This way, when the Program Sections of the FY2007 SuperNOFA are published, they will be fully reconciled with the General Section, as has been the case since 1998 when the SuperNOFA was first published. Applicants interested in receiving e-mail notification of the availability of the program sections should go to http://www.grants.gov/applicants/email_subscription.jsp and sign up for e-mail notification of funding opportunities. By doing so, you will receive an e-mail as soon as the program NOFA portion of the SuperNOFA is available on Grants.gov.

It is HUD's intent to have every applicant (the exception being Continuum of Care applicants who will still be submitting paper applications in FY 2007) successfully submit an electronic application via Grants.gov in FY 2007. You can help HUD improve its outreach and program NOFAs by providing feedback on ways it can improve the SuperNOFA process. Please note that each application contains a “You Are Our Client” survey questionnaire. HUD requests that you respond to this survey to let the Department know what improvements have been beneficial and to share your ideas on where improvements can continue to be made. HUD carefully considers the comments received from its clients and continually strives to improve each year's SuperNOFA and its funding process. This publication includes a list of programs anticipated to be in the FY2007 SuperNOFA, subject to the availability of funds. The program NOFA portion of the SuperNOFA will include any changes made to this listing and provide projected funding available and application deadline dates.

HUD hopes that the steps that it has taken to provide information early in the FY2007 funding process and SuperNOFA requirements will be of benefit to you, our applicants.

Dated: January 4, 2007.
Roy A. Bernardi,
Deputy Secretary.

Overview Information

A. Federal Agency Name: Department of Housing and Urban Development (HUD), Office of the Secretary.

B. Funding Opportunity Title: Policy requirements applicable to all HUD NOFAs published during FY2007.

C. Announcement Type: Initial announcement of the general policy requirements that apply to all HUD federal financial assistance NOFAs for FY2007 issued simultaneous with or after the publication of this notice.

D. Funding Opportunity Number: FR 5100-N-01.

E. Catalog of Federal Domestic Assistance (CFDA) Number: A CFDA number is provided for each HUD federal financial assistance program. When using “Apply Step 1” on the Grants.gov Web site to download an application, you will be asked for the CFDA number. Please refer to the program NOFA for the CFDA number assigned to the program(s) for which you wish to apply. Use only the CFDA number, the Funding Competition Identification Number, OR the Funding Opportunity Number when using the search feature on Grants.gov. Using more than one of these items will result in an error message indicating that the opportunity cannot be found.

F. Dates: The deadline dates that apply to the federal financial assistance made available through HUD's FY2007 SuperNOFA will be found in the program NOFAs contained in the published SuperNOFA. HUD is currently operating under a Continuing Resolution and it is expected that appropriations for FY2007 will be enacted soon. Appendix A to this General Section lists the programs that were included in the FY2006 SuperNOFA. This list should not be understood as a final or comprehensive list of the programs that will be published in the FY2007 SuperNOFA. For example, the Youthbuild program, which was included in the FY2006 SuperNOFA, was transferred to the United States Department of Labor on September 22, 2006 in accordance with Public Law 109-281 and will not be included in the FY2007 SuperNOFA. Additionally, FY2007 appropriations, when enacted, may result in other changes to the list of programs issued for FY2007. When published, the SuperNOFA will contain a revised Appendix A to the General Section providing the final list of programs included in the SuperNOFA, funds available under each funding opportunity, and key deadline dates. The contents of Appendix A will be based upon the enacted appropriations.

G. Additional Overview Content Information: Unless otherwise stated, HUD's general policy requirements set forth in this notice apply to all HUD federal financial assistance made available through HUD's FY2007 NOFAs. These policies cover those NOFAs issued through the FY2007 SuperNOFA, and those NOFAs issued after publication of the SuperNOFA.

Full Text of Announcement

I. Funding Opportunity Description

This notice describes HUD's FY2007 policy requirements applicable to all of HUD's NOFAs published in FY2007. Each such NOFA will contain a description of the specific requirements for the program for which funding is made available and each will refer to applicable policies described in this General Section. Each program NOFA will also describe additional procedures and requirements that apply to the individual program NOFA, including a description of the eligible applicants, eligible activities, threshold requirements, factors for award, and any additional program requirements or limitations. To adequately address all of the application requirements for any program for which you intend to apply, please carefully read and respond to both this General Section and the individual program NOFAs.

Authority. HUD's authority for making funding available under its FY2007 programs is identified in each program NOFA under this section of the General Section.

II. Award Information

Funding Available. Each program NOFA will identify the estimated amount of funds available in FY2007 based on available appropriations plus funds from previous years available for award in FY2007. Appendix A to this notice contains a chart of the programs that were included in the FY2006 SuperNOFA. This list should not be understood as a final or comprehensive list of the programs that will be published in the FY2007 SuperNOFA. For example, the Youthbuild program, which was included in the FY2006 SuperNOFA, was transferred to the United States Department of Labor on September 22, 2006 in accordance with Public Law 109-281 and will not be included in the FY2007 SuperNOFA. Additionally, FY2007 appropriations, when enacted, may result in other changes to the list of programs issued for FY2007. When published, the SuperNOFA will contain a revised Appendix A to the General Section providing the final list of programs included in the SuperNOFA, funds available under each funding opportunity, and key deadline dates. The contents of Appendix A will be based upon the enacted appropriations. Note that additional program NOFAs may be published separately from the FY2007 SuperNOFA.

III. Eligibility Information

A. Eligible Applicants

The individual program NOFAs describe the eligible applicants and eligible activities for each program.

B. Cost Sharing or Matching

The individual program NOFAs describe the applicable cost sharing, matching requirements, or leveraging requirements related to each program, if any. Although matching or cost sharing may not be required, HUD programs often encourage applicants to leverage grant funds with other funding in order to receive higher rating points.

C. Other Requirements and Procedures Applicable to All Programs

Except as may be modified in the individual program NOFAs, the requirements, procedures, and principles listed below apply to all HUD programs in FY2007 for which funding is announced by NOFA and published in the Federal Register. Please read the individual program NOFAs for additional requirements and information.

1. Statutory and Regulatory Requirements. To be eligible for funding under HUD NOFAs issued during FY2007, applicants must meet all statutory and regulatory requirements applicable to the program or programs for which they seek funding. Applicants requiring program regulations may obtain them from the NOFA Information Center or through HUD's Grants Web site at http://www.hud.gov/offices/adm/grants/fundsavail.cfm. See the individual program NOFAs for instructions on how HUD will respond to proposed activities that are ineligible.

2. Threshold Requirements

a. Ineligible Applicants. HUD will not consider an application from an ineligible applicant.

b. Dun and Bradstreet Data Universal Numbering System (DUNS) Number Requirement. All applicants seeking funding directly from HUD must obtain a DUNS number and include the number in its Application for Federal Assistance submission. Failure to provide a DUNS number will prevent you from obtaining an award, regardless of whether it is a new award or renewal of an existing one. This policy is pursuant to the Office of Management and Budget (OMB) policy issued in the Federal Register on June 27, 2003 (68 FR 38402). HUD published its regulation implementing the DUNS number requirement on November 9, 2004 (69 FR 65024). A copy of the OMB Federal Register notice and HUD's regulation implementing the DUNS number can be found on HUD's Web site at www.hud.gov/offices/adm/grants/duns.cfm.

c. Compliance with Fair Housing and Civil Rights Laws

(1) With the exception of federally recognized Indian tribes and their instrumentalities, applicants must comply with all applicable fair housing and civil rights requirements in 24 CFR 5.105(a). If you are a federally recognized Indian tribe, you must comply with the nondiscrimination provisions enumerated at 24 CFR 1000.12, as applicable. In addition to these requirements, there may be program-specific threshold requirements identified in the individual program NOFAs.

(2) If you, the applicant:

(a) Have been charged with an ongoing systemic violation of the Fair Housing Act; or

(b) Are a defendant in a Fair Housing Act lawsuit filed by the Department of Justice alleging an ongoing pattern or practice of discrimination; or

(c) Have received a letter of findings identifying ongoing systemic noncompliance under Title VI of the Civil Rights Act of 1964, Section 504 of the Rehabilitation Act of 1973, or Section 109 of the Housing and Community Development Act of 1974, and the charge, lawsuit, or letter of findings referenced in subparagraphs (a), (b), or (c) above has not been resolved to HUD's satisfaction before the application deadline, then you are ineligible and HUD will not rate and rank your application. HUD will determine if actions to resolve the charge, lawsuit, or letter of findings taken before the application deadline are sufficient to resolve the matter.

Examples of actions that would normally be considered sufficient to resolve the matter include, but are not limited to:

(i) A voluntary compliance agreement signed by all parties in response to a letter of findings;

(ii) A HUD-approved conciliation agreement signed by all parties;

(iii) A consent order or consent decree; or

(iv) An issuance of a judicial ruling or a HUD Administrative Law Judge's decision.

d. Conducting Business in Accordance with Core Values and Ethical Standards/Code of Conduct. Applicants subject to 24 CFR parts 84 and 85 (most nonprofit organizations and state, local, and tribal governments or government agencies or instrumentalities that receive federal awards of financial assistance) are required to develop and maintain a written code of conduct (see 24 CFR 84.42 and 85.36(b)(3)). Consistent with regulations governing specific programs, your code of conduct must prohibit real and apparent conflicts of interest that may arise among officers, employees, or agents; prohibit the solicitation and acceptance of gifts or gratuities by your officers, employees, or agents for their personal benefit in excess of minimal value; and outline administrative and disciplinary actions available to remedy violations of such standards. Before entering into an agreement with HUD, an applicant awarded assistance under a HUD program NOFA announced in FY2007 will be required to submit a copy of its code of conduct and describe the methods it will use to ensure that all officers, employees, and agents of its organization are aware of its code of conduct. An applicant is prohibited from receiving an award of funds from HUD if it fails to meet this requirement for a code of conduct. An applicant who submitted an application during FY2005 or FY2006 and included a copy of its code of conduct will not be required to submit another copy if the applicant is listed on HUD's Web site http://www.hud.gov/offices/adm/grants/codeofconduct/cconduct.cfm and if the information has not been revised. An applicant not listed on the above website must submit a copy of its code of conduct with their FY2007 application for assistance. An applicant must also include a copy of its code of conduct if the information listed on the above website has changed (e.g., the person who submitted the previous application is no longer your authorized organization representative, the organization has changed its legal name or merged with another organization, or the address of the organization has changed, etc.). Any applicant that needs to may submit its code of conduct to HUD via facsimile using the form HUD-96011, “Facsimile Transmittal” (“Third Party Documentation Facsimile Transmittal” on Grants.gov) at the time of application submission. When using the facsimile transmittal form, please type the requested information. Use the HUD-96011 as the cover page to the submission and include the following header in the top line of the form under “Name of Document Being Requested:” “Code of Conduct for (insert your organization's name, city, and state).” Fax the information to HUD's toll-free number at (800) HUD-1010. If you cannot access an 800 number or have problems, you may use (215) 825-8798 (this is not a toll-free number). HUD updates its code of conduct website annually before publishing the SuperNOFA. Therefore, applicants that submitted codes of conduct in FY2006 will find that their information has been updated and is available online for the FY2007 application submission time frame.

e. Delinquent Federal Debts. Consistent with the purpose and intent of 31 U.S.C. 3720B and 28 U.S.C. 3201(e), HUD will not award federal funds to an applicant that has an outstanding delinquent federal debt unless: (1) the delinquent account is paid in full, (2) a negotiated repayment schedule is established and the repayment schedule is not delinquent, or (3) other arrangements satisfactory to HUD are made prior to the deadline date.

f. Pre-Award Accounting System Surveys. HUD may arrange for a pre-award survey of the applicant's financial management system if the recommended applicant has no prior federal support, if HUD's program officials have reason to question whether the applicant's financial management system meets federal financial management standards, or if the applicant is considered a high risk based upon past performance or financial management findings. HUD will not disburse funds to any applicant that does not have a financial management system that meets federal standards. (Please see 24 CFR part 84.21 if you are an institution of higher education, hospital, or other nonprofit organization. See 24 CFR part 85.20 if you are a state, local government, or federally recognized Indian tribe).

g. Name Check Review. Applicants are subject to a name check review process. Name checks are intended to reveal matters that significantly reflect on the applicant's management and financial integrity, including if any key individual has been convicted or is presently facing criminal charges. If the name check reveals significant adverse findings that reflect on the business integrity or responsibility of the applicant or any key individual, HUD reserves the right to: (1) Deny funding or consider suspension or termination of an award immediately for cause, (2) require the removal of any key individual from association with management or implementation of the award, and (3) make appropriate provisions or revisions with respect to the method of payment or financial reporting requirements.

h. False Statements. A false statement in an application is grounds for denial or termination of an award and possible punishment as provided in 18 U.S.C. 1001.

i. Prohibition Against Lobbying Activities. Applicants are subject to the provisions of Section 319 of Public Law 101-121 (approved October 23, 1989) (31 U.S.C. 1352) (the Byrd Amendment), which prohibits recipients of federal contracts, grants, or loans from using appropriated funds for lobbying the executive or legislative branches of the federal government in connection with a specific contract, grant, or loan. In addition, applicants must disclose, using Standard Form LLL (SF-LLL), “Disclosure of Lobbying Activities,” any funds, other than federally appropriated funds, that will be or have been used to influence federal employees, members of Congress, or congressional staff regarding specific grants or contracts. Federally recognized Indian tribes and tribally designated housing entities (TDHEs) established by federally recognized Indian tribes as a result of the exercise of the tribe's sovereign power are excluded from coverage of the Byrd Amendment, but state-recognized Indian tribes and TDHEs established only under state law must comply with this requirement. Applicants must submit the SF-LLL if they have used or intend to use federal funds for lobbying activities.

j. Debarment and Suspension. In accordance with 24 CFR part 24, no award of federal funds may be made to applicants that are presently debarred or suspended, or proposed to be debarred or suspended, from doing business with the federal government.

3. Other Threshold Requirements. The individual program NOFAs for which you are applying may specify other threshold requirements. Additional threshold requirements may be identified in the discussion of “eligibility” requirements in the individual program NOFAs. If a program NOFA requires a certification of consistency with the Consolidated Plan and the applicant fails to provide a certification, and such failure is not cured as a technical deficiency, HUD will not fund the application. If HUD is provided a signed certification indicating consistency with the area's approved Consolidated Plan and HUD finds that the activities are not consistent with the Consolidated Plan, HUD will not fund the inconsistent activities or will deny funding the application if a majority of the activities are not consistent with the approved Consolidated Plan. The determination not to fund an activity or to deny funding may be determined by a number of factors, including the number of activities being proposed, the impact of the elimination of the activities on the proposal, or the percent of the budget allocated to the proposed activities.

4. Additional Nondiscrimination and Other Requirements. Applicants and their subrecipients must comply with:

a. Civil Rights Laws, including the Americans with Disabilities Act of 1990 (42 U.S.C. 1201 et seq.), the Age Discrimination Act of 1974 (42 U.S.C. 6101 et seq.), and Title IX of the Education Amendments Act of 1972 (20 U.S.C. 1681 et seq.).

b. Affirmatively Furthering Fair Housing. Under Section 808(e)(5) of the Fair Housing Act, HUD has a statutory duty to affirmatively further fair housing. HUD requires the same of its funding recipients. If you are a successful applicant, you will have a duty to affirmatively further fair housing opportunities for classes protected under the Fair Housing Act. Protected classes include race, color, national origin, religion, sex, disability, and familial status. Unless otherwise instructed in the individual program NOFA, your application must include specific steps to:

(1) Overcome the effects of impediments to fair housing choice that were identified in the jurisdiction's Analysis of Impediments (AI) to Fair Housing Choice;

(2) Remedy discrimination in housing; and

(3) Promote fair housing rights and fair housing choice.

Further, you, the applicant, have a duty to carry out the specific activities provided in your responses to the individual program NOFA rating factors that address affirmatively furthering fair housing. These requirements apply to all HUD programs announced via a NOFA, unless specifically excluded in the individual program NOFA.

c. Economic Opportunities for Low- and Very Low-Income Persons (Section 3). Certain programs to be issued during FY2007 require recipients of assistance to comply with Section 3 of the Housing and Urban Development Act of 1968 (Section 3), 12 U.S.C. 1701u (Economic Opportunities for Low- and Very Low-Income Persons in Connection with Assisted Projects), and the HUD regulations at 24 CFR part 135, including the reporting requirements at subpart E. Section 3 requires recipients to ensure, to the greatest extent feasible, that training, employment, and other economic opportunities will be directed to low- and very-low income persons, particularly those who are recipients of government assistance for housing, and to business concerns that provide economic opportunities to low- and very low-income persons in the area in which the project is located. Review the individual program NOFAs to determine if Section 3 applies to the program for which you are seeking funding. Applicants required to comply with Section 3 requirements must report annually using form HUD-60002 or HUD's online system at http://www.hud.gov/offices/fheo/system/index.cfm. Copies of form HUD-60002 are available on HUDClips at http://www.hudclips.org/sub_nonhud/html/nph-brs.cgi?d=FRMS&s1=hud-6$[no]&op1=AND&SECT1=TXTHLB&SECT5=FRMS&u=./forms.htm&p=1&r=3&f=G.

d. Ensuring the Participation of Small Businesses, Small Disadvantaged Businesses, and Women-Owned Businesses. HUD is committed to ensuring that small businesses, small disadvantaged businesses, and women-owned businesses participate fully in HUD's direct contracting and in contracting opportunities generated by HUD financial assistance. Too often, these businesses still experience difficulty in accessing information and in successfully bidding on federal contracts. State, local, and tribal governments are required by 24 CFR 85.36(e) and nonprofit recipients of assistance (grantees and sub-grantees) by 24 CFR 84.44(b) to take all necessary affirmative steps in contracting for the purchase of goods or services to assure that minority firms, women's business enterprises, and labor surplus area firms are used whenever possible or as specified in the individual program NOFAs.

e. Real Property Acquisition and Relocation. HUD-assisted programs or projects are subject to the Uniform Relocation Assistance and Real Property Acquisition Policies Act of 1970, as amended (Uniform Act or URA) (42 U.S.C. 4601), and the government-wide implementing regulations issued by the U.S. Department of Transportation at 49 CFR part 24. The Uniform Act's protections and assistance apply to acquisitions of real property and displacements resulting from the acquisition, rehabilitation, or demolition of real property for federal or federally assisted programs or projects. With certain limited exceptions, real property acquisitions for a HUD-assisted program or project must comply with 49 CFR part 24, subpart B. Real property acquisitions conducted without the threat or use of eminent domain, commonly referred to as “voluntary acquisitions,” must satisfy the applicable requirements of 49 CFR 24.101(b)(1) through (5) to be exempt from the URA's acquisition policies. Evidence of compliance with these requirements must be maintained by the recipient. The URA's relocation requirements remain applicable to any tenant(s) who are displaced by an acquisition and who meet the requirements of 49 CFR 24.101(b)(1) through (5).

The relocation requirements of the Uniform Act, and its implementing regulations at 49 CFR part 24, cover any person who moves permanently from real property or moves personal property from real property as a direct result of acquisition, rehabilitation, or demolition for a program or project receiving HUD assistance. While there are no statutory provisions for “temporary relocation” under the URA, the URA regulations recognize that there are circumstances where a person will not be permanently displaced but may need to be moved from a project for a short period of time. Appendix A of the URA regulation (49 CFR 24.2(a)(9)(ii)(D)) explains that any tenant who has been temporarily relocated for a period beyond one year must be contacted by the displacing agency and offered URA relocation assistance. Some HUD program regulations provide additional protections for temporarily relocated tenants. For example, 24 CFR 583.310(f)(1) provides guidance on temporary relocation for the Supportive Housing program for the homeless. Before planning their project, applicants should review the regulations for the programs for which they are applying. The URA does not apply to displacements resulting from the demolition or disposition of public housing covered by Section 18 of the United States Housing Act of 1937.

Additional information and resources pertaining to real property acquisition and relocation for HUD-funded programs and projects are available on HUD's Real Estate Acquisition and Relocation Web site at http://www.hud.gov/relocation. You will find applicable laws and regulations, policy and guidance, publications, training resources, and a listing of HUD contacts if you have questions or need assistance.

f. Executive Order 13166, “Improving Access to Services for Persons with Limited English Proficiency (LEP).” Executive Order 13166 seeks to improve access to federally assisted services, programs, and benefits for individuals with limited English proficiency. Applicants obtaining an award from HUD must seek to provide access to program benefits and information to LEP individuals through translation and interpretive services in accordance with LEP guidance published on December 19, 2003 (68 FR 70968). HUD expects final guidance to be published in January 2007. For assistance and information regarding your LEP obligation, go to http://www.lep.gov.

g. Executive Order 13279, “Equal Protection of the Laws for Faith-Based and Community Organizations.” HUD is committed to full implementation of Executive Order 13279. The Executive Order established fundamental principles and policymaking criteria to guide federal agencies in formulating and developing policies that have implications for faith-based and community organizations to ensure the equal protection for these organizations in social service programs receiving federal financial assistance. Consistent with this order, HUD has undertaken a review of all policies and regulations that have implications for faith-based and community organizations and has established a policy priority to provide full and equal access to grassroots faith-based and other community organizations in HUD program implementation. HUD revised its program regulations in 2003 and 2004 to remove the barriers by participation of faith-based organizations in HUD funding programs (68 FR 56396, September 30, 2003; 69 FR 41712, July 9, 2004; and 69 FR 62164, October 22, 2004). Copies of the regulatory changes can be found at http://www.hud.gov/offices/adm/grants/fundsavail.cfm.

h. Accessible Technology. Section 508 of the Rehabilitation Act (Section 508) requires HUD and other federal departments and agencies to ensure, when developing, procuring, maintaining, or using electronic and information technology (EIT), that the EIT allow, regardless of the type of medium of technology, persons with disabilities to access and use information and data on a comparable basis as is made available to and used by persons without disabilities. Section 508's coverage includes, but is not limited to, computers (hardware, software, word processing, email, and Internet sites), facsimile machines, copiers, and telephones. Among other things, Section 508 requires that unless an undue burden would result to the federal department or agency, EIT must allow individuals with disabilities who are federal employees or members of the public seeking information or services to have access to and use information and data on a comparable basis as that made available to employees and members of the public who are not disabled. Where an undue burden exists to the federal department or agency, alternative means may be used to allow a disabled individual use of the information and data. Section 508 does not require that information services be provided at any location other than a location at which the information services are generally provided. HUD encourages its funding recipients to adopt the goals and objectives of Section 508 by ensuring, whenever EIT is used, procured, or developed, that persons with disabilities have access to and use of the information and data made available through the EIT on a comparable basis as is made available to and used by persons without disabilities. This does not affect recipients’ required compliance with Section 504 of the Rehabilitation Act and, where applicable, the Americans with Disabilities Act.

i. Procurement of Recovered Materials. State agencies and agencies of a political subdivision of a state that are using assistance under a HUD program NOFA for procurement, and any person contracting with such an agency with respect to work performed under an assisted contract, must comply with the requirements of Section 6002 of the Solid Waste Disposal Act, as amended by the Resource Conservation and Recovery Act.

In accordance with Section 6002, these agencies and persons must procure items designated in guidelines of the Environmental Protection Agency (EPA) at 40 CFR part 247 that contain the highest percentage of recovered materials practicable, consistent with maintaining a satisfactory level of competition, where the purchase price of the item exceeds $10,000 or the value of the quantity acquired in the preceding fiscal year exceeded $10,000; must procure solid waste management services in a manner that maximizes energy and resource recovery; and must have established an affirmative procurement program for procurement of recovered materials identified in the EPA guidelines.

j. Participation in HUD-Sponsored Program Evaluation. As a condition of the receipt of financial assistance under a HUD program NOFA, all successful applicants will be required to cooperate with all HUD staff or contractors who perform HUD-funded research or evaluation studies.

k. Executive Order 13202, “Preservation of Open Competition and Government Neutrality Towards Government Contractors” Labor Relations on Federal and Federally Funded Construction Projects.” Compliance with HUD regulations at 24 CFR 5.108 that implement Executive Order 13202 is a condition of receipt of assistance under a HUD program NOFA.

l. Salary Limitation for Consultants. Unless specifically authorized by law, FY2007 funds may not be used to pay or to provide reimbursement for payment of the salary of a consultant, whether retained by the federal government or the grantee, at a rate more than the equivalent of the high pay for members of the Senior Executive Service (SES). For information on Executive Pay Band levels, please see the Office of Personnel Management (OPM) Web site at http://www.opm.gov/oca/06tables/html/es.asp.

m. OMB Circulars and Government-wide Regulations Applicable to Financial Assistance Programs. Certain OMB Circulars also apply to HUD programs in the SuperNOFA. The policies, guidance, and requirements of OMB Circulars A-87 (Cost Principles Applicable to Grants, Contracts and Other Agreements with State and Local Governments), A-21 (Cost Principles for Education Institutions), A-122 (Cost Principles for Nonprofit Organizations), A-133 (Audits of States, Local Governments, and Non-Profit Organizations), and the regulations at 24 CFR part 84 (Grants and Agreements with Institutions of Higher Education, Hospitals, and other Non-Profit Organizations), and 24 CFR part 85 (Administrative Requirements for Grants and Cooperative Agreements to State, Local, and Federally Recognized Indian Tribal Governments), may apply to the award, acceptance, and use of assistance under the individual program NOFAs of the SuperNOFA, and to the remedies for noncompliance, except when inconsistent with the provisions of HUD's appropriations act for FY2007, other federal statutes or regulations, or the provisions of this notice. Compliance with additional OMB circulars or government-wide regulations may be specified for a particular program in the Program Section of the SuperNOFA. Copies of the OMB circulars may be obtained from Executive Office of the President Publications, New Executive Office Building, Room 2200, Washington, DC 20503; telephone (202) 395-3080 (this is not a toll-free number) or (800) 877-8339 (toll-free TTY Federal Information Relay Service); or from the following Web site: http://www.whitehouse.gov/omb/circulars/index.html.

n. Environmental Requirements. If you become a recipient under a HUD program that assists in physical development activities or property acquisition, you are generally prohibited from acquiring, rehabilitating, converting, demolishing, leasing, repairing, or constructing property, or committing or expending HUD or non-HUD funds for these types of program activities, until one of the following has occurred:

(1) HUD has completed an environmental review in accordance with 24 CFR part 50; or

(2) For programs subject to 24 CFR part 58, HUD has approved a recipient's Request for Release of Funds (form HUD-7015.15) following a Responsible Entity's completion of an environmental review.

You, the applicant, should consult the individual program NOFA for any program for which you are interested in applying to determine the procedures for, timing of, and any modifications or exclusions from environmental review under a particular program. For applicants applying for funding under the Section 202 Supportive Housing for the Elderly program or Section 811 Supportive Housing for Persons with Disabilities program, please note the environmental review requirements for these programs.

o. Conflicts of Interest. If you are a consultant or expert who is assisting HUD in rating and ranking applicants for funding under the SuperNOFA or future NOFAs published in FY2007, you are subject to 18 U.S.C. 208, the federal criminal conflict-of-interest statute, and the Standards of Ethical Conduct for Employees of the Executive Branch regulation published at 5 CFR part 2635. As a result, if you have assisted or plan to assist applicants with preparing applications for programs in the SuperNOFA or NOFAs published in FY2007, you may not serve on a selection panel and you may not serve as a technical advisor to HUD. Persons involved in rating and ranking HUD FY2007 NOFAs, including experts and consultants, must avoid conflicts of interest or the appearance of such conflicts. Persons involved in rating and ranking applications must disclose to HUD's General Counsel or HUD's Ethics Law Division the following information, if applicable: how the selection or non-selection of any applicant under the FY2007 SuperNOFA will affect the individual's financial interests, as provided in 18 U.S.C. 208, or how the application process involves a party with whom the individual has a covered relationship under 5 CFR 2635.502. The person must disclose this information before participating in any matter regarding a FY2007 NOFA. If you have questions regarding these provisions or concerning a conflict of interest, you may call the Office of General Counsel, Ethics Law Division, at (202) 708-3815 (this is not a toll-free number).

p. Drug-Free Workplace. Applicants awarded funds from HUD are required to provide a drug-free workplace. Compliance with this requirement means that the applicant will:

(1) Publish a statement notifying employees that it is unlawful to manufacture, distribute, dispense, possess, or use a controlled substance in the applicant's workplace and that such activities are prohibited. The statement must specify the actions that will be taken against employees for violation of this prohibition. The statement must also notify employees that, as a condition of employment under the federal award, they are required to abide by the terms of the statement and that each employee must agree to notify the employer in writing of any violation of a criminal drug statute occurring in the workplace no later than 5 calendar days after such violation;

(2) Establish an ongoing drug-free awareness program to inform employees about:

(a) The dangers of drug abuse in the workplace;

(b) The applicant's policy of maintaining a drug-free workplace;

(c) Any available drug counseling, rehabilitation, or employee maintenance programs; and

(d) The penalties that may be imposed upon employees for drug abuse violations occurring in the workplace;

(3) Notify the federal agency in writing within 10 calendar days after receiving notice from an employee of a drug abuse conviction or otherwise receiving actual notice of a drug abuse conviction. The notification must be provided in writing to HUD's Office of Departmental Grants Management and Oversight, Department of Housing and Urban Development, 451 Seventh Street, SW., Room 3156, Washington, DC 20410-3000, along with the following information:

(a) The program title and award number for each HUD award covered;

(b) The HUD staff contact name, phone, and fax numbers;

(c) A grantee contact name, phone, and fax numbers; and

(4) Require that each employee engaged in the performance of the federally funded award be given a copy of the drug-free workplace statement required in item (1) above and notify the employee that one of the following actions will be taken against the employee within 30 calendar days of receiving notice of any drug abuse conviction:

(a) Institution of a personnel action against the employee, up to and including termination consistent with requirements of the Rehabilitation Act of 1973, as amended; or

(b) Imposition of a requirement that the employee participate satisfactorily in a drug abuse assistance or rehabilitation program approved for such purposes by a federal, state, or local health, law enforcement, or other appropriate agency.

q. Safeguarding Resident/Client Files. In maintaining resident and client files, HUD funding recipients shall observe state and local laws concerning the disclosure of records that pertain to individuals. Further, recipients are required to adopt and take reasonable measures to ensure that resident and client files are safeguarded.

r. Compliance with the Federal Funding Accountability and Transparency Act of 2006 (Public Law 109-282). Applicants receiving an award from HUD should be aware of the requirements of the Federal Funding Accountability and Transparency Act of 2006, which calls for the establishment of a central website that makes available to the public full disclosure of all entities receiving federal funds. The only exemptions to this law are federal transactions below $25,000 and credit card transactions prior to October 1, 2006. Grantees should be aware that the law requires the information provided on the federal website to include the following elements related to all subaward transactions, except as noted above:

(1) The name of the entity receiving the award;

(2) The amount of the award;

(3) Information on the award including the transaction type, funding agency, the North American Industry Classification System code or Catalog of Federal Domestic Assistance number (where applicable), program source, and an award title descriptive of the purpose of each funding action;

(4) The location of the entity receiving the award and primary location of performance under the award, including the city, state, congressional district, and country;

(5) A unique identifier of the entity receiving award and of the parent entity of the recipient, should the entity be owned by another entity; and

(6) Any other relevant information specified by OMB.

Additional information regarding these requirements will be provided when available.

IV. Application and Submission Information

A. Addresses to Request Application Package

This section describes how applicants may obtain application forms and request technical assistance.

1. Copies of the published NOFAs and application forms for HUD programs made available at Grants.gov can be found at https://apply.grants.gov/forms_apps_idx.html.

2. Technical Assistance and Resources for Electronic Grant Applications.

a. Grants.gov Customer Support. Applicants having difficulty accessing the application and instructions or having technical problems can receive customer support from Grants.gov by calling (800) 518-GRANTS (this is a toll-free number) or by sending an e-mail to support@grants.gov. The customer support center is open from 7 a.m. to 9 p.m. eastern time, Monday through Friday, except federal holidays. The customer service representatives will assist applicants in accessing the information and addressing technology issues.

b. Desktop Users Guide for Submitting Electronic Grant Applications. HUD has published on its Web site a detailed Desktop Users Guide that walks applicants through the electronic process, beginning with finding a funding opportunity, completing the registration process, and downloading and submitting the electronic application. The guide includes helpful step-by-step instructions, screen shots, and error-proof tips to assist applicants in becoming familiar with submitting applications electronically. The guide is available online at http://www.hud.gov/offices/adm/grants/deskuserguide.pdf.

c. HUD's Registration Brochure. HUD has a registration brochure that provides detailed information on the registration process. See http://www.hud.gov/offices/adm/grants/regbrochure.pdf.

d. HUD's Finding and Applying for Grant Opportunities Brochure. HUD also has a brochure that will guide you through the process of finding and applying for grants. See HUD's Finding and Applying for Grant Opportunities brochure at http://www.hud.gov/offices/adm/grants/findapplybrochure.pdf.

e. HUD's NOFA Information Center. Applicants that do not have Internet access and need to obtain a copy of a NOFA can contact HUD's NOFA Information Center toll-free at (800) HUD-8929. Persons with hearing or speech impairments may access this number via TTY by calling the Federal Information Relay Service at (800) 877-8339. The NOFA Information Center is open between the hours of 10 a.m. and 6:30 p.m. eastern time, Monday through Friday, except federal holidays.

f. HUD Staff. HUD staff will be available to provide you with general guidance and technical assistance about this notice or about individual program NOFAs. However, HUD staff is not permitted to help prepare your application. Following selection of applicants, but before announcement of awards are made, HUD staff is available to assist in clarifying or confirming information that is a prerequisite to the offer of an award or annual contributions contract (ACC) by HUD. If you have program-related questions, follow the instructions in Section VII of the Program Section entitled “Agency Contact(s)” in the program NOFA under which you are applying.

g. Connecting with Communities: A User's Guide to HUD Programs and the FY2007 NOFA Process Guidebook. A guidebook to HUD programs will be available from the HUD NOFA Information Center and at the HUD's Funds Available Web site at http://www.hud.gov/offices/adm/grants/fundsavail.cfm after the publication of the SuperNOFA. The guidebook provides a brief description of all HUD programs that have funding available in FY2007, identifies eligible applicants for the programs, and provides examples of how programs can work in combination to serve local community needs.

h. SuperNOFA Webcasts. HUD provides technical assistance and training on its programs announced through NOFAs. The NOFA broadcasts are interactive and allow potential applicants to obtain a better understanding of the threshold, program, and application submission requirements for funding. Participation in this training opportunity is free of charge and can be accessed via HUD's Web site at www.hud.gov/offices/adm/grants/fundsavail.cfm. The SuperNOFA Webcast schedule can be found via HUD's Web site at http://www.hud.gov/webcasts/index.cfm.

B. Content and Form of Application Submission

1. Instructions on How to Register for Electronic Application Submission. Applicants must submit their applications electronically through Grants.gov. Before you can do so, you must complete several important steps to register as a submitter. The registration process can take approximately 2 to 4 weeks to complete. Therefore, registration should be done in sufficient time before you submit your application. This section provides information on how to register with Grants.gov. There are five sequential registration steps required for an applicant to complete:

a. Step one is to obtain a Dun and Bradstreet Data Universal Numbering System (DUNS) number for your organization. All applicants seeking funding directly from HUD must obtain a DUNS number and include the number on the form SF-424, Application for Federal Financial Assistance, which is part of the application submission. Failure to provide a DUNS number will prevent you from obtaining an award, regardless of whether it is a new award or renewal of an existing one. This policy is pursuant to the OMB policy issued in the Federal Register on June 27, 2003 (68 FR 38402). HUD published its regulation implementing the DUNS number requirement on November 9, 2004 (69 FR 65024). A copy of the OMB Federal Register notice and HUD's regulation implementing the DUNS number can be found on HUD's Web site at http://www.hud.gov/offices/adm/grants/duns.cfm. Applicants cannot submit applications electronically without a DUNS number entry. Applicants should also be aware that the applicant information entered and used to obtain the DUNS number will be used to pre-populate the Central Contractor Registration (CCR), which is required as part of the registration process. Applicants should carefully enter and review their information when obtaining a DUNS number.

When completing the application, applicants will be asked to provide their DUNS number on the SF-424. Applicants must carefully enter the DUNS number on the application package, making sure it is identical to the DUNS number under which the Authorized Organization Representative is registered to submit an application. If the DUNS number entered on the application package does not match the registration, the application will be rejected. For details about the error messages received when submitting with the wrong DUNS number, please see HUD's Desktop Users Guide for Submitting Electronic Grant Applications at http://www.hud.gov/offices/adm/grants/deskuserguide.pdf. Applicants can obtain a DUNS number by calling (866) 705-5711 (this is a toll-free number). The approximate time to get a DUNS number is 10 to 15 minutes, and there is no charge. You should wait approximately 24 to 48 hours to register with the CCR so that your DUNS number can become active in Dun and Bradstreet's (D&B) records.

b. Step two is to register with the CCR.

Grant applicants must register with CCR to begin the electronic application submission process. The CCR is the primary vendor database for the federal government. In addition, your CCR registration must be renewed/updated annually. Failure to update/renew your CCR registration will cause your Grants.gov registration to be invalid and you will not be able to submit an application for funding. Registration can take several weeks, so HUD urges any applicant that has not completed or updated its registration to do so immediately because the changes to the CCR registration processing noted below may prohibit you from attempting to make these changes in the last few days prior to the deadline date. Applicants can register with the CCR at http://www.ccr.gov/. The CCR registration process consists of completing a Trading Partner Profile (TPP), which contains general, corporate, and financial information about your organization. While completing the TPP, you will need to identify an E-Business Point of Contact (E-Business POC), who will be responsible for maintaining the information in the TPP and giving authorization to individuals to serve as Authorized Organization Representatives (AORs). The AOR will submit applications through Grants.gov for your organization.

(1) CCR Use of D&B Information. At the end of July 2006, a policy change to the CCR name and address information was implemented. Under this new policy, instead of obtaining name and address information directly from the registrant, CCR will obtain the following data fields from D&B: Legal Business Name, Doing Business As Name (DBA), Physical Address, and Postal Code/Zip+4. Registrants will not be able to enter/modify these fields in CCR; they will be pre-populated using D&B Data Universal Numbering System (DUNS) record data. During new registration or when updating a record, the registrant has a choice to accept or reject the information provided from D&B. Under the revised system, if the CCR registrant agrees with the D&B-supplied information, the D&B data will be accepted into the CCR registrant record. If the registrant disagrees with the D&B-supplied information, the registrant will need to go to the D&B Web site http://fedgov.dnb.com/webform to modify the information currently contained in D&B's records before proceeding with its CCR registration. Once D&B confirms modifications, the registrant must revisit the CCR Web site and “accept” D&B's changes. Only at this point will the D&B data be accepted into the CCR record. This process can take up to 2 business days for D&B to send modified data to CCR, and that time frame may be longer if data is sent from abroad.

(2) CCR EIN/TIN Validation. On October 30, 2005, CCR began validating the Employer Identification Number (EIN)/Taxpayer Identification Number (TIN) and the Employer/Taxpayer Name of each new and updating CCR registrant with the IRS. The EIN/TIN matching process is a joint effort between the General Services Administration, Department of Defense, and IRS to improve the quality of data in government acquisition systems. A notice has gone out to CCR registrants informing them of the IRS validation in CCR registration. In order to complete your CCR registration and qualify as a vendor eligible to bid for federal government contracts or apply for federal grants, the EIN/TIN and Employer/Taxpayer Name combination you provide in the IRS Consent Form must match exactly to the EIN/TIN and Employer/Taxpayer Name used in federal tax matters. It will take at least one to two business days to validate new and updated records prior to becoming active in CCR. Therefore, please be sure that the data items provided to D&B match information that you have provided to the IRS. Otherwise, when the validation check with IRS is done, the registrations in D&B and the CCR will not match the IRS information and an error message will result. This will prevent the registration from being completed until the discrepancies have been resolved. Applicants should allow sufficient time to review their D&B and CCR information. If you have questions about your EIN or TIN, call (800) 829-4933.

c. Step three requires that the designated Authorized Organization Representative (AOR) from the organization register with the Credential Provider. In order to safeguard the security of your electronic information, Grants.gov utilizes a Credential Provider to determine with certainty that someone is really who he or she claims to be. Your organization will need to be registered with the CCR and you will need to have your organization's DUNS number available to complete this process. An assigned AOR must register with the Credential Provider to create and receive a username and password, which are needed to submit an application package through Grants.gov. Applicants can register with the Credential Provider at http://apply.grants.gov/OrcRegister.

Beginning August 30, 2007, organizations will have three federally approved credential providers from which to choose their authentication services—the Agriculture Department; OPM's Employee Express; and, the current provider, Operational Research Consultants, Inc. (ORC). Users who already hold a Grants.gov user name and password through ORC will not experience much change. New users will be able to choose from the credential providers on the list.

d. Step four requires the AOR to register with Grants.gov in order to submit an electronic grant application. To submit an application to HUD, an AOR must be able to make a legally binding commitment on behalf of the applicant. The AOR can register with Grants.gov and submit an application on the same day. Applicants can register with Grants.gov at https://apply.grants.gov/GrantsgovRegister.

e. Step five requires the E-Business point of contact (POC) to approve the designated AORs. The E-Business POC can designate the AOR to submit applications on behalf of the organization at https://apply.grants.gov/agency/AorMgrGetID.

2. Instructions on How to Download an Application Package and Application Instructions

a. The Application Package and Application Instructions. The general process for downloading, completing, submitting, and tracking grant application packages is described at http://www.grants.gov/applicants/apply_for_grants.jsp. To download the application and instructions, go to https://apply.grants.gov/forms_apps_idx.html and enter the CFDA Number, Funding Opportunity Number, or Funding Opportunity Competition ID for the application that you are interested in. If you enter more than one criterion, you will not find the instructions. You will then come to a page where you will find the funding opportunity Download Application & Instructions links. The first thing you should do is download the Instructions by clicking on the Download Instructions link. The Instructions contain the General and Program Sections for the funding opportunity, as well as forms that are not part of the application download but are included as elements of a complete package as specified in the published NOFA. The second thing you should do is download the application by clicking on the Download Application link. Both the Instructions and Application can be saved to your desktop. You do not need to be registered to download and read the instructions or complete the application; however, once you have downloaded the application and intend to submit an application, you must save it on your computer.

Each program NOFA also includes a checklist. Please review the checklist in the Program Section to ensure that your application contains all the required materials.

b. Electronic Grant Application Forms.

(1) Forms contained in the Instructions download are available in Microsoft Word (.doc) (version 9), Microsoft Excel 2000 (.xls), or Adobe (.pdf) formats. The pdf files are only fillable forms—not savable, unless you have Adobe Professional software version 6.0 or higher.

(2) The Application download will also contain a cover page entitled “Grant Application Package.” The cover page provides information regarding the application package you have chosen to download, i.e., Opportunity Title, Agency Name, CFDA Number, etc. Review this information to ensure that you have selected the correct application. The Grant Application cover page separates the required forms into two categories: “Mandatory Documents” and “Optional Documents.” Please note that regardless of the box in which the forms are listed, the published Federal Register document is the official document HUD uses to solicit applications. Therefore, applicants should follow the instructions provided in the General Section and Program Sections of the Instructions download. The individual NOFA sections will also identify the forms that may be applicable and that need to be submitted with the application.

(3) Because you will be adding additional attachment files to the downloaded application, applicants should save the application to their hard drive. Do not download the application or attempt to upload the application using a “thumb” or “jump drive,” as Grants.gov has found that applicants have problems uploading from a jump drive. Be sure to read and follow the application submission requirements published in each individual NOFA for which you are submitting an application. Each program NOFA will identify all the required forms for submission.

(4) HUD's standard forms are identified below:

(a) Application for Federal Financial Assistance (SF-424);

(b) Faith-Based EEO Survey (SF-424 Supplement, Survey on Ensuring Equal Opportunities for Applicants), if applicable;

(c) HUD Detailed Budget (HUD-424-CB, Grant Application Detailed Budget);

(d) Grant Application Detailed Budget Worksheet (HUD-424-CBW);

(e) Disclosure of Lobbying Activities (SF-LLL), if applicable;

(f) HUD Applicant Recipient Disclosure Report (HUD-2880, Applicant/Recipient Disclosure/Update Report);

(g) Certification of Consistency with RC/EZ/EC-II Strategic Plan (HUD-2990), if applicable;

(h) Certification of Consistency with the Consolidated Plan (HUD-2991), if applicable;

(i) Acknowledgment of Application Receipt (HUD-2993);

(j) You Are Our Client Grant Applicant Survey (HUD 2994-A) (Optional);

(k) Program Outcome Logic Model (HUD-96010);

(l) HUD Race Ethnic Form (HUD-27061), if applicable;

(m) HUD Communities Initiative (HUD-27300, Questionnaire for HUD's Removal of Regulatory Barriers), if applicable; and

(n) HUD Facsimile Transmittal (HUD-96011, Third Party Documentation Facsimile Transmittal).

All HUD “program specific” forms not available at the Application download will be available in the Instructions download in Microsoft Word .doc (version 9), Microsoft Excel 2000 (.xls), or Adobe (.pdf) format compatible with Adobe Reader 6.0 or later. The pdf forms are form fillable but not savable unless you have Adobe Professional 6.0 or higher. Applicants may use the HUD-96011, “Third Party Documentation Facsimile Transmittal” (“HUD Facsimile Transmittal” on Grants.gov) form and fax to HUD any forms they have completed but cannot save.

Copies of the Continuum of Care application forms will be on HUD's website at http://www.hud.gov/offices/adm/grants/fundsavail.cfm until such time as HUD places an application on www.Grants.gov/Apply. Once an application is placed on Grants.gov/Apply, applicants should follow the website instructions for obtaining an application from Grants.gov.

3. Instructions on How to Complete the Selected Grant Application Package

a. Mandatory Fields on Application Download Forms. Forms in the Application download contain fields with a yellow background. These data fields are mandatory and must be completed. Failure to complete the fields will result in an error message when checking the package for errors.

b. Completion of SF-424 Fields First. The forms in the application package are designed to automatically populate common data such as the applicant name and address, DUNS number, etc. In order to trigger this function, the SF-424 must be completed first. Once applicants complete the SF-424, the entered information will transfer to the other forms.

c. Submission of Narrative Statements, Third Party Letters, Certifications, and Program-Specific Forms. In addition to program-specific forms, many of the NOFAs require the submission of other documentation, such as third-party letters, certifications, or program narrative statements. This section discusses how you should submit this additional information electronically as part of your application:

(1) Narrative Statements to the Factors for Award. If you are required to submit narrative statements, you must submit them as an electronic file in Microsoft Word (version 9 or earlier), Microsoft Excel (.xls) 2000 (or earlier) or in Adobe (.pdf) format that is compatible with Adobe Reader 6.0 or earlier. If HUD receives a file in a format other than those specified, HUD will not be able to read the file, and it will not be reviewed. Each response to a Factor for Award should be clearly identified and can be incorporated into a single attachment or all attachments can be zipped together into a single attached ZIP file. Program NOFAs may require files to be submitted separately or as a single ZIP file, so please carefully review the individual NOFAs when they are published. Documents that applicants possess in electronic format, e.g., narratives they have written, or graphic images (such as computer aided design (CAD) files from an architect) must be saved in PDF format compatible with Adobe Reader 6.0 or an earlier version and attached using the “Attachments” form included in the application package downloaded from Grants.gov. In addition, some NOFAs may request photographs. If this is the case, then the photos should be saved in .jpg or jpeg format and attached using the attachments form. When creating attachments to your application, please follow these rules:

(a) DO NOT attach a copy of the electronic application with your attachments as an attachments file. HUD cannot open such files when they are attached as attachments.

(b) Check the attachment file and make sure it has a file extension of .doc, .pdf, .xls, .jpg, or .jpeg.

(c) Make sure that file extensions are not in upper case. File extensions must be lower case for the file to be opened.

(d) DO NOT use special characters (i.e., #, %, /, etc.) in a file name.

(e) DO NOT include spaces in the file name.

(f) Limit file names to not more than 50 characters.

(2) ZIP Files. In order to reduce the size of attachments, applicants can compress several files using a ZIP utility. Applicants can then attach the zipped file as described above. HUD's standard zip utility is WinZip. Files compressed with the WinZip utility must use either the “Normal” option or “Maximum (portable)” option available to ensure that HUD is able to open the file. Files received using compression methods other than “Normal” or “Maximum (portable)” cannot be opened and will not be reviewed. Applicants should be aware that if HUD receives files compressed using another utility, or not in accord with these directions, it cannot open the files and, therefore, such files will not be reviewed.

(3) Third-Party Letters, Certifications Requiring Signatures, and Other Documentation. Applicants required to submit third-party documentation (e.g., establishing matching or leveraged funds, documentation of 501(c)(3) status or incorporation papers, documents that support the need for the program, memoranda of understanding (MOUs), or program-required documentation that supports your organization's claims regarding work that has been done to remove regulatory barriers to affordable housing) can choose from the following two options as a way to provide HUD with the documentation:

(a) Scanning Documents to Create Electronic Files. Scanning documents increases the size of files. If your computer has the capacity to upload scanned documents, submit your documents with the application by using the Attachment Form in the Mandatory or Optional Forms section of the application. If your computer does not have the memory to upload scanned documents, you should submit them via fax as described below. Electronic files must be labeled so that the recipient at HUD will know what the file contains. Program NOFAs will indicate any naming conventions that applicants must use when submitting files using the attachment form.

(b) Faxing Required Documentation. Applicants may fax the required documentation as program-specific forms to HUD. Applicants should only use this method when documents cannot be attached to the electronic application package as a .pdf, .doc, .xls, .jpeg, or .jpg, or when the size of the submission is too large to upload from the applicant's computer. HUD will not accept entire applications by fax and will disqualify applications submitted entirely in that manner.

(i) Fax Form HUD-96011, “Third Party Documentation Facsimile Transmittal” (“HUD Facsimile Transmittal” on Grants.gov). Facsimiles submitted in response to a NOFA must use the form HUD-96011. The facsimile transmittal form, found in the downloaded application, contains a unique identifier that allows HUD to match an applicant's submitted application via Grants.gov with faxes coming from a variety of sources. Each time the application package is downloaded, the forms in the package are given a unique ID number. To ensure that all the forms in your package contain the same unique ID number, after downloading your application, complete the SF-424, save the forms to your hard drive, and use the saved forms to create your application. When you have downloaded your application package from Grants.gov, be sure to first complete the SF-424, and then provide copies of the form HUD-96011 to third parties that will submit information in support of your application. Do not download the same application package from Grants.gov more than once because if your application submission does not match the unique identifier on the facsimile transmittal form, HUD will not be able to match the faxes received to your application submission. Faxes that cannot be matched to an application will not be considered in the review process.

If you have to provide a copy of the form HUD-96011 to another party that will be responsible for faxing an item as part of your application, make a copy of the facsimile transmittal cover page from your downloaded application and provide that copy to the third party for use with the fax transmission. Please instruct third parties to use the form HUD-96011 that you have provided as a cover page when they submit information supporting your application using the facsimile method, because it contains the embedded ID number that is unique to your application submission.

(ii) Use Form HUD-96011 as Fax Cover Page. For HUD to correctly match a fax to a particular application, the applicant must use and require third parties that fax documentation on its behalf to use the form HUD-96011 as the cover page of the facsimile. Using the form HUD-96011 will ensure that HUD can electronically read faxes submitted by and on behalf of an applicant and match them to the applicant's application package received via Grants.gov.

Failure to use the form HUD-96011 as the cover page will create a problem in electronically matching your faxes to the application. If HUD is unable to match the faxes electronically due to an applicant's failure to follow these directions, HUD will not hand-match faxes to applications and will not consider the faxed information in rating the application. If your facsimile machine automatically creates a cover page, turn this feature off before faxing information to HUD.

(iii) HUD Fax Number. Applicants and third parties submitting information on their behalf must use the HUD-96011 facsimile transmittal cover page and must send the information to the following fax number: (800) HUD-1010. If you cannot access the toll-free 800 number or experience problems, you may use (215) 825-8798 (this is not a toll-free number).

(iv) Fax Individual Documents as Separate Transmissions. In addition, it is highly recommended that applicants fax individual documents as separate submissions to avoid fax transmission problems. When faxing two or more documents to HUD, applicants must use the form HUD-96011 as the cover page for each document (e.g., Letter of Matching or Leveraging Funds, Memorandum of Understanding, Certification of Consistency with the Consolidated Plan, etc.). Please be aware that faxing large documents at one time may result in transmission failures.

(v) Check Accuracy of Fax Transmission. Be sure to check the record of your transmission issued by the fax machine to ensure that your fax submission was completed “OK.” For large or long documents, HUD suggests that you divide them into smaller sections for faxing purposes. Each time you fax a document that you have divided into smaller sections, you should indicate on the cover sheet what part of the overall section you are submitting (e.g., “part 1 of 4 parts” or “pages 1-10 of 20 pages”).

Your facsimile machine should provide you with a record of whether HUD received your transmission. If you get a negative response or a transmission error, you should resubmit the document until you confirm that HUD has received your transmission. HUD will not acknowledge that it received a fax successfully. When receiving a fax electronically, HUD will electronically read it with an optical character reader and attach it to the application submitted through Grants.gov. Applicants and third parties submitting information on their behalf may submit information by facsimile at any time before the application deadline date. Applicants must ensure that the form HUD-96011 used to fax information matches their electronic application (i.e., is part of the application package downloaded from Grants.gov). As stated previously, when faxing information, you must ensure that if your facsimile machine automatically generates a cover page, that you turn that feature off and use the form HUD-96011 as the cover page. Also ensure that the fax is transmitted to fit 8½″ x 11″ letter size paper.

(vi) Preview your Fax Transmission. HUD recommends that you “preview” how your fax will be transmitted by using the copy feature on your facsimile machine and make a copy of the first two or three pages. You will see what HUD receives as a fax. If the fax is not clear or cuts off at the bottom of the page, applicants should use a different facsimile machine or have the machine adjusted. All faxed materials must be received no later than 11:59:59 p.m. eastern time on the application deadline date. HUD will store the information and match it to the electronic application when HUD receives it from Grants.gov. If you are not faxing any documents: Even though you are not faxing any documents, you must still complete the facsimile transmittal form. In the section of the form titled “Name of Document Transmitting,” enter the words “Nothing Faxed with this Application.” Complete the remaining highlighted fields and enter the number “0” in the section of the form titled “How many pages (including cover) are being faxed?”

Steps to Take Before You Submit Your Application. You should review the application package and all the attachments to make sure it contains all the documents you want to submit. If it does, save it to your computer and remove previously saved versions. Check your AOR status on Grants.gov to make sure your E-Business POC has authorized you to submit an application on behalf of your organization. Run the Check Package for Errors feature on the application package and correct any problems identified. Contact any persons or entities that were to submit third-party faxes to make sure that the faxes have been submitted using the facsimile cover page that you provided.

C. Submission Dates and Times

Applications submitted through Grants.gov must be received and validated by Grants.gov no later than 11:59:59 p.m. eastern time on the application deadline date. There are several steps in the upload and receipt process, so applicants are advised to submit their applications at least 48 to 72 hours in advance of the deadline date and when the Grants.gov help desk is open so that any issues can be addressed prior to the deadline date and time. HUD recommends uploading your application using Internet Explorer or Netscape.

1. Confirmation of Submission to Grants.gov. When you successfully upload an application to Grants.gov, you will receive a confirmation message on your computer screen that your application has been submitted to Grants.gov and is being processed. This confirmation will include a tracking number. Print this confirmation out and save it for your records. If you have submitted multiple applications, be sure to check to see what application to which each confirmation applies. The grant number, CFDA, and Funding Opportunity Number, as well as the date and time of submission, will appear on the confirmation. If you do not receive this confirmation, it means that your application has not been successfully uploaded. If your screen goes blank or you have problems uploading, you need to immediately call Grants.gov support at (800) 518-GRANTS for assistance (this is a toll-free number).

2. Application Submission Validation Check. The application will then go through a validation process. The validation check ensures that:

a. The application is virus-free;

b. The application meets the deadline requirements established for the funding opportunity;

c. The DUNS number submitted on the application matches the DUNS number in the registration, and that the AOR has been authorized to submit the application for funding by the organization identified by its DUNS number; and

d. All the mandatory (highlighted) fields and forms were completed on the application.

3. Application Validation and Rejection Notification. If the application fails any of the above items during the validation check, the application package will be rejected and the submitter will receive an email indicating the application has been rejected. The email will include the reasons why the application was rejected. The validation check can occur 24 to 48 hours after the application submission. Therefore, HUD recommends that all applicants submit their application no later than 72 hours before the deadline. That way, if the application fails the validation process, the applicant will have time to make the corrections and resubmit the application before the deadline. By submitting 72 hours in advance of the deadline, applicants should have time to cure deficiencies in their application. In developing the application submission dates, HUD has considered the validation process and established due dates for all NOFAs that add in the additional time needed for the validation process. For example, if HUD previously provided a 60-day application period, HUD will provide a 63-day application period in FY2007. In this scenario, however, in order to meet the validation requirement, your application must be submitted by the 60th day.

4. Timely Receipt Requirements and Proof of Timely Submission

a. Proof of Application Submission. Proof of timely submission and validation is automatically recorded by Grants.gov. An electronic time stamp is generated within the system when the application has been successfully received and validated.

b. Confirmation Receipt. Upon submitting an application at Grants.gov, you will receive a Confirmation, which advises that your application is being processed. This confirmation will also include the Grants.gov tracking number. Print the confirmation and save it with your records.

c. Validation Receipt via E-mail. Within 24 to 48 hours after receipt of the confirmation, the applicant will receive a validation receipt via email. The receipt indicates that the application has passed the validation review at Grants.gov and the application is ready to be retrieved by the grantor agency for agency processing. Please be aware that the Grants.gov validation does not indicate that the grantor agency has reviewed the content of your application; rather, the validation merely indicates that the application has been successfully received and is ready for pick-up by the grantor agency.

d. Rejection Notice. If an application fails the validation process, the applicant will receive a rejection notice within 24 to 48 hours after the confirmation notice. The applicant should review the rejection notice because it will include the reason for rejection. The applicant should try to cure the deficiencies and resubmit the application as soon as possible prior to the deadline. By submitting the application 72 hours prior to the deadline, applicants who have completed their registration should have sufficient time to cure the reasons for rejection and successfully resubmit their application in time to meet the deadline.

e. Save and File Receipts. Applicants should save all receipts from Grants.gov, as well as facsimile receipts for proof of timely submission. Applicants will be considered as meeting the deadline date requirements when Grants.gov has received and validated your application no later than the deadline date and time, and when all fax transmissions have been received by the deadline date and time.

f. Delayed Transmission Time. Applicants using dial-up connections should be aware that transmitting your application takes extra time before Grants.gov receives it. Grants.gov will provide either an error or a successfully received transmission message. The Grants.gov Help Desk reports that some applicants abort the transmission because they think that nothing is occurring during the transmission process. Please be patient and give the system time to process the application. Uploading and transmitting a large file, particularly electronic forms with associated eXtensible mark-up language (XML) schema, will take considerable time to process and be received by Grants.gov. However, the upload even for large files should not take longer than one hour. If you are still waiting after one hour for the submission to be uploaded to Grants.gov, stop the transmission and check the available disk space and memory on your computer. HUD has found that difficulty in uploading an application from the applicant's desktop is most frequently due to: (1) The application package being too large to be handled by the applicant's computer; (2) the local entity's network limits the size of files going in or out; or (3) the Internet service provider has a file size limit. Therefore, in such instances, the application should be reduced in size by removing attachment files and submitting the attachments via the facsimile method using the form HUD-96011 as the cover page. The application without attachments should be uploaded to Grants.gov. HUD will match applications submitted to Grants.gov with facsimiles that have been transmitted following the directions in this notice.

g. Ensure You Have Installed the Free Grants.gov Software. Check to ensure that the latest version of the software available from Grants.gov, which is free for system users, has been properly installed on your computer. Applicants will find a link to the free software for download at the Download Application page for the funding opportunity available on Grants.gov. HUD has found that an improper installation will result in an application not being able to upload properly. If you are not sure how to determine if the software is properly installed, call the Grants.gov Support Desk.

5. Late applications. Applications validated by Grants.gov after the established deadline for the program will be considered late and will not receive funding consideration. Applicants should pay close attention to these submission and timely receipt instructions, as they can make a difference in whether HUD will accept your application for funding consideration. Similarly, HUD will not consider information submitted by facsimile as part of the application if received by HUD after the established deadline. Please take into account the transmission time required for submitting your application via the Internet and the time required to fax any related documents. HUD suggests that applicants submit their applications during the operating hours of the Grants.gov Help Desk so that, if there are questions concerning transmission, operators will be available to assist you through the process. Submitting your application early and during the Help Desk hours will also ensure that you have sufficient time for the application to complete its transmission before the application deadline.

6. Continuum of Care Paper Application Submission. Applicants under the Continuum of Care program should follow the directions for application submission and timely receipt that are contained in the Continuum of Care program section.

D. Intergovernmental Review/State Points of Contact (SPOC)

Executive Order 12372, “Intergovernmental Review of Federal Programs,” was issued to foster intergovernmental partnership and strengthen federalism by relying on state and local processes for the coordination and review of federal financial assistance and direct federal development. HUD implementing regulations are published at 24 CFR part 52. The executive order allows each state to designate an entity to perform a state review function. Applicants can find the official listing of State Points of Contact (SPOCs) for this review process at http://www.whitehouse.gov/omb/grants/spoc.html. States not listed on the Web site have chosen not to participate in the intergovernmental review process and, therefore, do not have a SPOC. If your state has a SPOC, you should contact the SPOC to see if it is interested in reviewing your application before submission to HUD.

Please make sure that you allow ample time for this review when developing and submitting your applications. If your state does not have a SPOC, you can submit your application directly to HUD using Grants.gov.

E. Funding Restrictions

The individual program NOFAs will describe any funding restrictions that apply to each program.

F. Other Submission Requirements

1. Application Kits. There are no application kits for HUD programs. All the information you need to apply will be in the NOFA and available at http://www.grants.gov/applicants/apply_for_grants.jsp.

2. Discrepancies between the Federal Register and Other Documents. The published Federal Register document is the official document that HUD uses to solicit applications. Therefore, if there is a discrepancy between any materials published by HUD in its Federal Register publications and other information provided in paper copy, electronic copy, at www.grants.gov, or at HUD's Web site, the Federal Register publication prevails. Please be sure to review your application submission against the requirements in the Federal Register file for the program NOFA or NOFAs to which you are applying.

3. Application Certifications and Assurances. Applicants are placed on notice that by signing the SF-424 cover page:

a. The governing body of the applicant's organization has duly authorized the application for federal assistance. In addition, by signing or electronically submitting the application, the AOR certifies that the applicant:

(1) Has the legal authority to apply for federal assistance and has the institutional, managerial, and financial capacity (including funds to pay for any non-federal share of program costs) to plan, manage, and complete the program as described in the application;

(2) Will provide HUD with any additional information it may require; and

(3) Will administer the award in compliance with requirements identified and contained in the NOFA (General and Program sections) as applicable to the program for which funds are awarded and in accordance with requirements applicable to the program.

b. No appropriated federal funds have been paid or will be paid, by or on behalf of the applicant, to any person for influencing or attempting to influence an officer or employee of any agency, a member of Congress, or an employee of a member of Congress, in connection with this application for federal assistance or any award of funds resulting from the submission of this application for federal assistance or its extension, renewal, amendment, or modification. If funds other than federal appropriated funds have been or will be paid for influencing or attempting to influence the persons listed above, the applicant agrees to complete and submit SF-LLL, Disclosure of Lobbying Activities, as part of its application submission package. The applicant further agrees to and certifies that it will require similar certification and disclosure of all subawards at all tiers, including subgrants and contracts.

c. Federally recognized Indian tribes and tribally designated housing entities (TDHEs) established by a federally recognized Indian tribe, as a result of the exercise of the tribe's sovereign power, are excluded from coverage by item b. (also known as the Byrd Amendment). However, state-recognized Indian tribes and TDHEs established under state law are not excluded from the statute's coverage and therefore must comply with item b above.

By submitting an application, the applicant affirms its awareness of these certifications and assurances. The AOR submitting the application is affirming that these certifications and assurances are material representations of the facts upon which HUD will rely when making an award to the applicant. If it is later determined that the signatory to the application submission knowingly made a false certification or assurance or did not have the authority to make a legally binding commitment for the applicant, the applicant may be subject to criminal prosecution, and HUD may terminate the award to the applicant organization or pursue other available remedies.

4. Waiver of Electronic Submission Requirements. The regulatory framework for HUD's electronic submission requirement is the final rule established in 24 CFR 5.1005. Applicants seeking a waiver of the electronic submission requirement must request a waiver in accordance with 24 CFR 5.1005. HUD's regulations allow for a waiver of the electronic submission requirement for cause. If the waiver is granted, the applicable program office's response will include instructions on how many hard copies of the paper application must be submitted as well as how and where to submit them. Applicants that are granted a waiver of the electronic submission requirement will not be afforded additional time to submit their applications. The deadlines for applications will remain as provided in the program section of the SuperNOFA and as per the final Appendix A published with the SuperNOFA program sections. As a result, applicants seeking a waiver of the electronic application submission requirement should submit their waiver request with sufficient time to allow HUD to process and respond to the request. Applicants should also allow themselves sufficient time to submit their application so that HUD receives the application by the established deadline date. For this reason, HUD strongly recommends that if an applicant finds it cannot submit its application electronically and must seek a waiver of the electronic grant submission requirement, it should submit the waiver request to the headquarters of the applicable HUD office no later than 15 days before the application deadline. This will allow time for HUD to process the waiver request and give the applicant sufficient time to submit the paper application to meet the deadline if the waiver is granted. To expedite the receipt and review of such requests, applicants may email their requests to the program contact listed in the program NOFA. If HUD does not have sufficient time to process the waiver request, a waiver will not be granted. Paper applications received without a prior approved waiver and/or after the established deadline date will not be considered.

V. Application Review Information

A. Criteria

1. Factors for Award Used to Evaluate and Rate Applications. For each program NOFA, the points awarded for the rating factors total 100. Depending on the program for which you are seeking funding, the funding opportunity may provide up to four bonus points, as provided below:

a. RC/EZ/EC-II. HUD will award two bonus points to each application that includes a valid form HUD-2990 certifying that the proposed activities/projects in the application are consistent with the strategic plan for an empowerment zone (EZ) designated by HUD or the U.S. Department of Agriculture (USDA), the tax incentive utilization plan for an urban or rural renewal community designated by HUD (RC), or the strategic plan for and enterprise community designated in round II by USDA (EZ-II), and that the proposed activities/projects will be located within the RC/EZ/EC-II identified above and are intended to serve the residents. For ease of reference in this notice, all of the federally designated areas are collectively referred to as “RC/EZ/EC-IIs” and residents of any of these federally designated areas as “RC/EZ/EC-II residents.” The individual funding announcements will indicate if the bonus points are available under the program. This notice contains a certification that must be completed for the applicant to be considered for RC/EZ/EC-II bonus points. Applicants can obtain a list of RC/EZ/EC-IIs from HUD's grants Web page at http://www.hud.gov/offices/adm/grants/fundsavail.cfm. Applicants can determine if their program or project activities are located in one of these designated areas by using the locator on HUD's Web site at http://egis.hud.gov/egis/.

b. The Five Standard Rating Factors for FY2007. HUD has established the following five standard factors for awarding funds under the majority of its FY2007 program NOFAs.

Factor 1: Capacity of the Applicant and Relevant Organizational Staff.

Factor 2: Need/Extent of the Problem.

Factor 3: Soundness of Approach.

Factor 4: Leveraging Resources.

Factor 5: Achieving Results and Program Evaluation.

Additional details about the five rating factors and the maximum points for each factor are provided in the program NOFAs. For a specific funding opportunity, HUD may modify these factors to take into account explicit program needs or statutory or regulatory limitations. Applicants should carefully read the factors for award as described in the program NOFA to which you are responding.

The Continuum of Care Homeless Assistance programs have only two factors that receive points: (1) Need and (2) Continuum of Care.

c. Additional Criterion. In addition to the Standard Rating Criterion, HUD will consider the following additional items when rating your application(s).

(1) Past Performance. In evaluating applications for funding, HUD will take into account applicants’ past performance in managing funds, including, but not limited to, the ability to account for funds appropriately; timely use of funds received either from HUD or other federal, state, or local programs; timely submission and quality of reports to HUD; meeting performance targets as established in logic models approved as part of the grant agreement; timelines for completion of activities and receipt of promised matching or leveraged funds; and the number of persons to be served or targeted for assistance. HUD may consider information available from HUD's records; the name check review; public sources such as newspapers, Inspector General or Government Accountability Office reports or findings; or hotline or other complaints that have been proven to have merit.

(2) Deducting Points for Poor Performance. In evaluating past performance, HUD may elect to deduct points from the rating score or establish threshold levels as specified under the Factors for Award in the individual program NOFAs.

B. Reviews and Selection Process

1. HUD's Strategic Goals to Implement HUD's Strategic Framework and Demonstrate Results. HUD is committed to ensuring that programs result in the achievement of HUD's strategic mission. To support this effort, grant applications submitted for HUD programs will be rated on how well they tie proposed outcomes to HUD's policy priorities and annual goals and objectives, as well as the quality of the applicant's proposed evaluation and monitoring plans. HUD's strategic framework establishes the following goals and objectives for the Department:

a. Increase Homeownership Opportunities.

(1) Expand national homeownership opportunities.

(2) Increase minority homeownership.

(3) Make the home-buying process less complicated and less expensive.

(4) Reduce predatory lending practices through reform, education, and enforcement.

(5) Help HUD-assisted renters become homeowners.

(6) Keep existing homeowners from losing their homes.

b. Promote Decent Affordable Housing.

(1) Expand access to and the availability of decent, affordable rental housing.

(2) Improve the management accountability and physical quality of public and assisted housing.

(3) Improve housing opportunities for the elderly and persons with disabilities.

(4) Promote housing self-sufficiency.

(5) Facilitate more effective delivery of affordable housing by reforming public housing and the Housing Choice Voucher program.

c. Strengthen Communities.

(1) Assist disaster recovery in the Gulf Coast region.

(2) Enhance sustainability of communities by expanding economic opportunities.

(3) Foster a suitable living environment in communities by improving physical conditions and quality of life.

(4) End chronic homelessness and move homeless families and individuals to permanent housing.

(5) Mitigate housing conditions that threaten health.

d. Ensure Equal Opportunity in Housing.

(1) Ensure access to a fair and effective administrative process to investigate and resolve complaints of discrimination.

(2) Improve public awareness of rights and responsibilities under fair housing laws.

(3) Improve housing accessibility for persons with disabilities.

(4) Ensure that HUD-funded entities comply with fair housing and other civil rights laws.

e. Embrace High Standards of Ethics, Management, and Accountability.

(1) Strategically manage human capital to increase employee satisfaction and improve HUD performance.

(2) Improve HUD's management and internal controls to ensure program compliance and resolve audit issues.

(3) Improve accountability, service delivery, and customer service of HUD and its partners.

(4) Capitalize on modernized technology to improve the delivery of HUD's core business functions.

f. Promote Participation of Faith-Based and Other Community Organizations.

(1) Reduce barriers to faith-based and other community organizations.

(2) Conduct outreach and provide technical assistance to strengthen the capacity of faith-based and community organizations to attract partners and secure resources.

(3) Encourage partnerships between faith-based and other community organizations and HUD's grantees and subgrantees.

Additional information about HUD's New Strategic Plan FY2006-FY2011, and 2002-2007 Annual Performance Plans is available at http://www.hud.gov/offices/cfo/reports/cforept.cfm.

2. Policy Priorities. HUD encourages applicants to undertake specific activities that will assist the Department in implementing its policy priorities and achieving its goals for FY2007 and beyond, when the majority of funding recipients will be reporting programmatic results and achievements. Applicants that include work activities that specifically address one or more of these policy priorities will receive higher rating scores than applicants that do not address these HUD priorities. Each NOFA issued in FY2007 will specify which priorities relate to a particular program and how many points will be awarded for addressing those priorities.

a. Providing Increased Homeownership and Rental Opportunities for Low- and Moderate-Income Persons, Persons with Disabilities, the Elderly, Minorities, and Persons with Limited English Proficiency. Too often, these individuals and families are shut out of the housing market through no fault of their own. Often, developers of housing, housing counseling agencies, and other organizations engaged in the housing industry must work aggressively to open up the realm of homeownership and rental opportunities to low- and moderate-income persons, persons with disabilities, the elderly, minorities, and persons with limited English proficiency. Many of these families are anxious to have homes of their own, but are not aware of the programs and assistance that are available. Applicants are encouraged to address the housing, housing counseling, and other related supportive service needs of these individuals and coordinate their proposed activities with funding available through HUD's affordable housing programs and home loan programs.

Proposed activities support strategic goals a, b, and d.

b. Improving our Nation's Communities. HUD wants to improve the quality of life for those living in distressed communities. Applicants are encouraged to include activities that:

(1) Bring private capital into distressed communities;

(2) Finance business investments to grow new businesses;

(3) Maintain and expand existing businesses;

(4) Create a pool of funds for new small and minority-owned businesses; and

(5) Create decent jobs for low-income persons.

(6) Improve the environmental health and safety of families living in public and privately owned housing by including activities that:

(i) Coordinate lead hazard reduction programs with weatherization activities funded by state and local governments and the federal government; and

(ii) Reduce or eliminate health-related hazards in the home caused by toxic agents, such as molds and other allergens, carbon monoxide, and other hazardous agents and conditions;

(7) Make communities more livable by:

(i) Providing public and social services; and

(ii) Improving infrastructure and community facilities.

Activities support strategic goals b, c, and d.

c. Encouraging Accessible Design Features. As described in Section III.C.2.c., applicants must comply with applicable civil rights laws, including the Fair Housing Act, Section 504 of the Rehabilitation Act of 1973, and the Americans with Disabilities Act. These laws and the regulations implementing them provide for nondiscrimination based on disability and require housing and other facilities to incorporate certain features intended to provide for their use and enjoyment by persons with disabilities. HUD is encouraging applicants to add accessible design features beyond those required under civil rights laws and regulations. Such features would eliminate many other barriers limiting the access of persons with disabilities to housing and other facilities. Copies of the Uniform Federal Accessibility Standards (UFAS) are available from the NOFA Information Center at (800) HUD-8929 and also from the Office of Fair Housing and Equal Opportunity, Department of Housing and Urban Development, 451 Seventh Street, SW., Room 5230, Washington, DC 20410-2000; telephone (202) 755-5404 or toll-free at (800) 877-8339 (TTY). Persons with hearing or speech impairments may access these numbers via TTY by calling the Federal Information Relay Service at (800) 877-8339. (These are toll-free numbers.)

Accessible design features are intended to promote visitability and incorporate features of universal design, as described below.

(1) Visitability in New Construction and Substantial Rehabilitation. Applicants are encouraged to incorporate visitability standards, where feasible, in new construction and substantial rehabilitation projects. Visitability standards allow a person with mobility impairments access into the home, but do not require that all features be made accessible. Visitability means that there is at least one entrance at grade (no steps), approached by an accessible route such as a sidewalk, and that the entrance door and all interior passage doors are at least 2 feet, 10 inches wide, allowing 32 inches of clear passage space. A visitable home also serves persons without disabilities, such as a mother pushing a stroller or a person delivering a large appliance. More information about visitability is available at http://www.concretechange.org/.

Activities support strategic goals b, c, and d.

(2) Universal Design. Applicants are encouraged to incorporate universal design in the construction or rehabilitation of housing, retail establishments, and community facilities funded with HUD assistance. Universal design is the design of products and environments to be usable by all people to the greatest extent possible, without the need for adaptation or specialized design. The intent of universal design is to simplify life for everyone by making products, communications, and the built environment more usable by as many people as possible at little or no extra cost to the user. Universal design benefits people of all ages and abilities. In addition to any applicable required accessibility feature under Section 504 of the Rehabilitation Act of 1973 or the design and construction requirements of the Fair Housing Act, the Department encourages applicants to incorporate the principles of universal design when developing housing, community facilities, and electronic communication mechanisms, or when communicating with community residents at public meetings or events.

HUD believes that by creating housing that is accessible to all, it can increase the supply of affordable housing for all, regardless of ability or age. Likewise, creating places where people work, train, and interact that are usable and open to all residents increases opportunities for economic and personal self-sufficiency. More information on universal design is available from the Center for Universal Design at http://www.design.ncsu.edu:8120/cud/ or the Resource Center on Accessible Housing and Universal Design at www.abledata.com/abledata.cfm?pageid=113573&top=16029&sectionid=19326.

Activities support strategic goals a thru d.

d. Providing Full and Equal Access to Grassroots Faith-Based and Other Community Organizations in HUD Program Implementation.

(1) HUD encourages nonprofit organizations, including grassroots faith-based and other community organizations, to participate in the vast array of programs for which funding is available through HUD's programs. HUD also encourages states, units of local government, universities, colleges, and other organizations to partner with grassroots organizations (e.g., civic organizations, faith communities, and grassroots faith-based and other community organizations) that have not been effectively utilized. These grassroots organizations have a strong history of providing vital community services, such as assisting the homeless and preventing homelessness, counseling individuals and families on fair housing rights, providing elderly housing opportunities, developing first-time homeownership programs, increasing homeownership and rental housing opportunities in neighborhoods of choice, developing affordable and accessible housing in neighborhoods across the country, creating economic development programs, and supporting the residents of public housing facilities. HUD seeks to make its programs more effective, efficient, and accessible by expanding opportunities for grassroots organizations to participate in developing solutions for their own neighborhoods. Additionally, HUD encourages applicants to include these grassroots faith-based and other community organizations in their work plans. Applicants, their partners, and participants must review the individual FY2007 HUD program announcements to determine whether they are eligible to apply for funding directly or whether they must establish a working relationship with an eligible applicant in order to participate in a HUD funding opportunity. Grassroots faith-based and other community organizations, and applicants that currently or propose to partner, fund, subgrant, or subcontract with grassroots organizations (including grassroots faith-based or other community nonprofit organizations eligible under applicable program regulations) in conducting their work programs will receive higher rating points, as specified in the individual FY2007 HUD program announcements.

(2) Definitions of Grassroots Organizations.

(a) HUD will consider an organization a “grassroots organization” if the organization is headquartered in the local community in which it provides services; and

(i) Has a social services budget of $300,000 or less, or

(ii) Has six or fewer full-time equivalent employees.

(b) Local affiliates of national organizations are not considered “grassroots.” Local affiliates of national organizations are encouraged, however, to partner with grassroots organizations, but must demonstrate that they are currently working with a grassroots organization (e.g., having a grassroots faith-based or other community organization provide volunteers).

(c) The cap provided in paragraph (2)(a)(i) above includes only that portion of an organization's budget allocated to providing social services. It does not include other portions of the budget, such as salaries and expenses, not directly expended in the provision of social services.

Activities support strategic goal f.

e. Participation of Minority-Serving Institutions (MSIs) in HUD Programs. Pursuant to Executive Orders 13256, “President's Board of Advisors on Historically Black Colleges and Universities,” 13230, “President's Advisory Commission on Educational Excellence for Hispanic Americans,” 13216, “Increasing Participation of Asian Americans and Pacific Islanders in Federal Programs,” and 13270, “Tribal Colleges and Universities,” HUD is strongly committed to broadening the participation of MSIs in its programs. HUD is interested in increasing the participation of MSIs in order to advance the development of human potential, strengthen the nation's capacity to provide high quality education, and increase opportunities for MSIs to participate and benefit from federal financial assistance programs. HUD encourages all applicants and recipients to include meaningful participation of MSIs in their work programs. A listing of MSIs can be found on the Department of Education Web site at www.ed.gov/about/offices/list/ocr/edlite-minorityinst.html or HUD's Web site at www.hud.gov/offices/adm/grants/fundsavail.cfm. Activities support strategic goals c and d.

f. Ending Chronic Homelessness. President Bush has set a national goal to end chronic homelessness. HUD Secretary Alphonso Jackson has embraced this goal and has pledged that HUD's grant programs will be used to support the President's goal and better meet the needs of chronically homeless individuals. A person experiencing chronic homelessness is defined as an unaccompanied individual with a disabling condition who has been continuously homeless for a year or more or has experienced four or more episodes of homelessness over the last 3 years. A disabling condition is defined as a diagnosable substance abuse disorder, serious mental illness, developmental disability, or chronic physical illness or disability, including the co-occurrence of two or more of these conditions. Applicants are encouraged to target assistance to chronically homeless persons by undertaking activities that will result in:

(1) Creation of affordable housing units, supportive housing, and group homes;

(2) Establishment of a set-aside of units of affordable housing for the chronically homeless;

(3) Establishment of substance abuse treatment programs targeted to the homeless population;

(4) Establishment of job training programs that will provide opportunities for economic self-sufficiency;

(5) Establishment of counseling programs that assist homeless persons in finding housing, managing finances, managing anger, and building interpersonal relationships;

(6) Provision of supportive services, such as health care assistance, that will permit homeless individuals to become productive members of society; and

(7) Provision of service coordinators or one-stop assistance centers that will ensure that chronically homeless persons have access to a variety of social services.

Applicants that are developing programs to meet the goals set in this policy priority should keep in mind the requirements of the regulations implementing Section 504 of the Rehabilitation Act, in particular, 24 CFR 8.4(b)(1)(iv), 8.4(c)(1), and 8.4(d).

Activities support strategic goals b and c.

g. Removal of Regulatory Barriers to Affordable Housing.

In FY2007, HUD continues to make removal of regulatory barriers a policy priority. Through the Department's America's Affordable Communities Initiative, HUD is seeking input into how it can work more effectively with the public and private sectors to remove regulatory barriers to affordable housing. Increasing the affordability of rental and homeownership housing continues to be a high priority of the Department. Addressing these barriers to housing affordability is a necessary component of any overall national housing policy.

Under this policy priority, higher rating points are available to: (1) governmental applicants that are able to demonstrate successful efforts in removing regulatory barriers to affordable housing and (2) nongovernmental applicants that are associated with jurisdictions that have undertaken successful efforts in removing barriers. To obtain the policy priority points for efforts to successfully remove regulatory barriers, applicants must complete form HUD-27300, “Questionnaire for HUD's Removal of Regulatory Barriers” (“HUD Communities Initiative” on Grants.gov). Copies of HUD's notices published on this issue can be found on HUD's Web site at http://www.hud.gov/offices/adm/grants/fundsavail.cfm.

Local jurisdictions and counties with land use and building regulatory authority applying for funding, as well as PHAs, nonprofit organizations, and other qualified applicants applying for funds for projects located in these jurisdictions, are invited to answer the 20 questions under Part A. An applicant that scores at least five in column 2 will receive one point in the NOFA evaluation. An applicant that scores ten or more in column 2 will receive two points in the NOFA evaluation.

State agencies or departments applying for funding, as well as PHAs, nonprofit organizations, and other qualified applicants applying for funds for projects located in unincorporated areas or areas not otherwise covered in Part A, are invited to answer the 15 questions under Part B. Under Part B, an applicant that scores at least four in column 2 will receive one point in the NOFA evaluation. Under Part B, an applicant that scores eight or more will receive a total of two points in the respective evaluation.

Applicants that will be providing services in multiple jurisdictions may choose to address the questions in either Part A or Part B for that jurisdiction in which the preponderance of services will be performed should an award be made. In no case will an applicant receive more than two points for barrier removal activities under this policy priority. An applicant that is an Indian tribe or TDHE may choose to complete either Part A or Part B after determining whether the tribe's or TDHE's association with the local jurisdiction or the state would be the more advantageous for its application.

The form HUD-27300, “Questionnaire for HUD's Removal of Regulatory Barriers” (“HUD Communities Initiative” on Grants.gov), is available as part of the application package retrieved from Grants.gov, and at http://www.hudclips.org/sub_nonhud/html/forms.htm. A limited number of questions on the form expressly request the applicant to provide brief documentation with its response. Other questions require that, for each affirmative statement made, the applicant supply a reference, Internet address, or brief statement indicating where the back-up information may be found and a point of contact, including a telephone number or email address. To obtain an understanding of this policy priority and how it can affect their score, applicants are encouraged to read HUD's three notices, which are available at http://www.hud.gov/initiatives/affordablecom.cfm. Applicants that do not provide the Internet addresses, references, or documentation will not get the policy priority points. Activities support strategic goals a and b.

h. Participation in Energy Star. HUD has adopted a wide-ranging energy action plan for improving energy efficiency in all program areas. As a first step in implementing the energy plan, HUD, the Environmental Protection Agency (EPA), and the Department of Energy (DOE) have signed a partnership to promote energy efficiency in HUD's affordable housing programs, including public housing, HUD-insured housing, and housing financed through HUD formula and competitive programs. The purpose of the Energy Star partnership is to promote energy-efficient affordable housing stock while protecting the environment. Applicants constructing, rehabilitating, or maintaining housing or community facilities are encouraged to promote energy efficiency in design and operations. They are urged especially to purchase and use products that display the Energy Star label. Applicants providing housing assistance or counseling services are encouraged to promote Energy Star materials and practices, as well as buildings constructed to Energy Star standards, to both homebuyers and renters.

Applicants are encouraged to undertake program activities that include developing Energy Star promotional and information materials; providing outreach to low- and moderate-income renters and buyers on the benefits and savings when using Energy Star products and appliances; utilizing Energy Star-designated products in the construction or rehabilitation of housing units; and replacing worn products or facilities, such as light bulbs, water heaters, furnaces, etc., with Energy Star products in order to reduce operating costs. Communities and developers are encouraged to promote the designation of community buildings and homes as Energy Star compliant. For further information about Energy Star, see http://www.energystar.gov or call the following toll-free numbers: (888) 782-7937 or (888) 588-9920 (TTY).

Activities support strategic goals a and b.

3. Threshold Compliance. Only applications that meet all of the threshold requirements will be eligible to receive an award of funds from HUD.

4. Corrections to Deficient Applications. After the application deadline, HUD may not, consistent with its regulations in 24 CFR part 4, subpart B, consider any unsolicited information that you, the applicant, may want to provide. HUD may contact you to clarify an item in your application or to correct curable (correctable) technical deficiencies. HUD may not seek clarification of items or responses that improve the substantive quality of your response to any rating factors. In order not to unreasonably exclude applications from being rated and ranked, HUD may contact applicants to ensure proper completion of the application and will do so on a uniform basis for all applicants.

Examples of curable (correctable) technical deficiencies include inconsistencies in the funding request, failure to submit the proper certifications, and failure to submit an application that contains a signature by an official able to make a legally binding commitment on behalf of the applicant. In the case of an applicant that received a waiver of the regulatory requirement to submit an electronic application, the technical deficiency may include failure to submit an application that contains an original signature. If HUD finds a curable deficiency in the application, HUD will notify you in writing by describing the clarification or technical deficiency. HUD will notify applicants by facsimile or via the U.S. Postal Service, return receipt requested. Clarifications or corrections of technical deficiencies in accordance with the information provided by HUD must be submitted within 14 calendar days of the date of receipt of the HUD notification. (If the deadline date falls on a Saturday, Sunday, or federal holiday, your correction must be received by HUD on the next day that is not a Saturday, Sunday, or federal holiday.) If the deficiency is not corrected within this time, HUD will reject the application as incomplete, and it will not be considered for funding. In order to meet statutory deadlines for the obligation of funds or for timely completion of the review process, program NOFAs may reduce the number of days for submitting a response to a HUD clarification or a correction to a technical deficiency. Please be sure to carefully read each program NOFA for any additional information and instructions. An applicant's response to a HUD notification of a curable deficiency should be submitted directly to HUD in accordance with the instructions provided in the notification.

5. Rating Panels. To review and rate applications, HUD may establish panels that may include persons not currently employed by HUD. HUD may include these non-HUD employees to obtain particular expertise and outside points of view, including views from other federal agencies. Persons brought into HUD to review applications are subject to conflict-of-interest provisions. In addition, reviewers using HUD information technology (IT) systems may be subject to an IT security check.

6. Rating. HUD will evaluate and rate all applications for funding that meet the threshold requirements.

7. Ranking. HUD will rank applicants within each program or, for Continuum of Care applicants, across the three programs identified in the Continuum of Care NOFA. HUD will rank applicants only against those applying for the same program funding.

Where there are set-asides within a program competition, you, the applicant, will compete against only those applicants in the same set-aside competition.

C. Anticipated Announcement and Award Dates

The individual program NOFAs will provide the applicable information regarding this subject.

VI. Award Administration Information

A. Award Notices

1. Negotiation. After it has rated and ranked all applications and made selections, HUD may require, depending upon the program, that a selected applicant participate in negotiations to determine the specific terms of the funding agreement and budget. In cases where HUD cannot successfully conclude negotiations with a selected applicant or a selected applicant fails to provide HUD with requested information, an award will not be made to that applicant. In such an instance, HUD may offer an award to and proceed with negotiations with the next highest-ranking applicant.

2. Adjustments to Funding.

a. To ensure the fair distribution of funds and enable the purposes or requirements of a specific program to be met, HUD reserves the right to fund less than the full amount requested in your application.

b. HUD will not fund any portion of your application that: (1) is not eligible for funding under specific HUD program statutory or regulatory requirements; (2) does not meet the requirements of this notice; or (3) is duplicative of other funded programs or activities from prior year awards or other selected applicants. Only the eligible portions of your application (excluding duplicative portions) may be funded.

c. If funds remain after funding the highest-ranking applications, HUD may fund all or part of the next highest-ranking application in a given program. If you, the applicant, turn down an award offer, HUD will make an offer of funding to the next highest-ranking application.

d. If funds remain after all selections have been made, remaining funds may be made available within the current fiscal year for other competitions within the program area or held over for future competitions.

e. Individual program NOFAs may have other requirements, so please review the program NOFA carefully.

3. Funding Errors. In the event HUD commits an error that, if corrected, would result in selection of an applicant during the funding round of a program NOFA, HUD may select that applicant when sufficient funds become available.

4. Performance and Compliance Actions of Funding Recipients. HUD will measure and address the performance and compliance actions of funding recipients in accordance with the applicable standards and sanctions of their respective programs.

5. Debriefing. For a period of at least 120 days, beginning 30 days after the awards for assistance are publicly announced, HUD will provide to a requesting applicant a debriefing related to its application. A request for debriefing must be made in writing or by email by the authorized official whose signature appears on the SF-424 or by his or her successor in office, and be submitted to the person or organization identified as the contact under the section entitled “Agency Contact(s)” in the individual program NOFA under which you applied for assistance. Information provided during a debriefing will include, at a minimum, the final score you received for each rating factor, final evaluator comments for each rating factor, and the final assessment indicating the basis upon which assistance was provided or denied.

B. Administrative and National Policy Requirements

See Section III.C. of this notice regarding related requirements.

C. Reporting

1. Use of a Logic Model to Report Performance. In FY2004, HUD used as a planning tool the logic model submitted as part of NOFA applications. In FY2005, HUD required grant agreements to incorporate performance reporting against the approved logic model. In FY2006, HUD moved to standardized “master” logic models from which applicants can select needs, activities/outputs, and outcomes appropriate to their programs. In addition, program offices have identified Program Management Evaluation Questions that grantees will be required to report on as specified in the approved program eLogic Model™. The time frame established for the logic model reporting will be in accordance with the program's established reporting periods and as stated in the program NOFA.

2. Placement of Approved Logic Models and Reports on HUD's Web site. It is HUD's intent to publish approved logic models and grantee progress reports submitted to HUD on its Grants web site. Starting with awards made in FY2007, HUD is establishing a Grants Performance page that will feature program performance ratings issued by OMB under its Program Assessment Rating Tool (PART), or its successor tool, for HUD programs that have been evaluated by OMB. HUD will also post all approved logic models that show each awardee's projected outputs and outcomes during the period of performance. As required performance reports are received by HUD, they will be added to the web site. HUD is creating this web site page to highlight and make available to the public performance and results from HUD-funded programs in keeping with Executive Order 13392, issued December 14, 2005, and published in the Federal Register on December 19, 2005 (70 FR 75373). HUD believes that informing the public on progress in funded programs is in keeping with presidential and congressional intent for transparency in federally funded programs, as demonstrated by the passage of the Federal Funding Accountability and Transparency Act of 2006 (Pub. L. 109-282), and creation of the federal Web sites http://www.ExpectMore.gov and http://www.Results.gov.

3. HUD also intends to propose Return on Investment (ROI) Statements for each of its competitive grant programs. Before finalizing ROI Statements for implementation, HUD will publish the proposed ROI Statements for public comment. HUD believes the applicant/grantee community can greatly assist HUD in its attempt to place a value on the work done under the Department's grant programs. While HUD expects grantees to respond to the Management Evaluation Questions in their final reports, reporting on the ROI Statements is not mandatory at this time. As HUD finalizes ROI Statements for each program, they will be included in awards in the future. HUD intends to publish the first ROI Statements for public comment and input during FY2007.

4. The logic model form (HUD-96010), which is a Microsoft Excel workbook, contains instructions in Tab 1 on how to use the form. The form or eLogic Model incorporates a program-specific master list of statements of need, service, or activity/output(s) and their associated unit(s) of measure; and outcome(s) and their associated unit(s) of measure. Applicants will be required to click on a cell within a column. When you click on the cell, the drop-down button appears to the right of the cell. Applicants can then select the appropriate statement(s) to reflect their proposed program. Applicants can select multiple need(s) and services, or activities/outputs and outcomes, but each selection is entered in separate cells using the drop-down menu. The units of measure, whether for outputs or outcomes, contain both a number and a descriptor of the output or outcome that is counted. Applicants select the unit of measure in accordance with the output or outcome selected, and then insert the expected number of units to be completed or achieved during the period of performance. In this manner, the applicant will build a custom logic model reflecting their program of activities. The custom logic model will link the need(s) to the activity/output(s), which in turn are linked to the result or expected outcome(s).

5. Based upon experience gathered from the logic models completed in FY2006, HUD has made the following changes to the logic model format:

a. Added drop-down menus for HUD Strategic Goals and Policy Priorities to eliminate applicant confusion as to what letters and numbers to use for the goals and priorities, and to improve data quality;

b. Added tabs for Year 1, Year 2, and Year 3 activities as well as a tab for Total. HUD found that applicants within a program had varying opinions or interpretations on time frames for short, intermediate, and long term. To provide for greater consistency in reporting, applicants should include all activities and outcomes expected per year of the period of performance. HUD also found that applicants varied their use of the short, intermediate, and long-term totals so that it was difficult to distinguish if long-term totals were cumulative or just reflective of the activities performed during the last reporting period. To eliminate this problem, HUD has added a Total tab so that cumulative projected and final results can be shown covering all years of the period of performance. Applicants with a one-year period of performance will only have to complete the Year 1 tab, since the total results will all occur in the one-year award period.

c. Included a new tab for reporting instructions. For the grantees’ convenience and to call attention to the requirements, the logic model form now contains reporting instructions. The instructions ask applicants to identify in their reports to HUD where actual results deviated from projected results—either positively or negatively. The Reporting Instruction tab includes a text field in which grantees can report any deviations, as well as their responses to the management questions. While these changes to the form do not add additional burden hours to the information collection, HUD believes that the changes will assist the applicant in completing their logic model and provide for better quality logic models and reporting to HUD. The changes were developed based on eLogic Models™ received in FY2006 and comments received from applicants during the NOFA process. HUD will continue to review data received via the eLogic Models™ and would like to thank the applicant/grantee community for their recommendations and insights.

6. In FY2007, grantees must adhere to the following reporting principles:

a. An evaluation process will be part of the ongoing management of the HUD-funded award;

b. Comparisons will be made between projected and actual numbers for outputs and outcomes;

c. Deviations from projected outputs and outcomes will be documented and explained as part of required reporting; and

d. Data will be analyzed to determine the relationship of outputs to outcomes to determine which outputs produce which outcomes and which are most effective.

As stated above, in FY2006, HUD required each program to establish a set of Program Management Evaluation Questions for grantee reporting. Grantees must use these questions to self-evaluate the management and performance of their program. HUD is continuing this practice in FY2007. In developing the master logic model Program Management Evaluation Questions, HUD trained its program managers on the Carter-Richmond Methodology, a critical thinking process that identifies key management and evaluation questions for HUD's programs. The following table identifies the Carter-Richmond generic questions and where the source data is found in the logic model.

Carter-Richmond Methodology: ¹ Building Blocks for Effective Management
Management questions | Logic model columns for source data
1. How many clients are you serving? | Service/Activity/Output.
2. How many units were provided? | Service/Activity/Output.
3. Who are you serving? | Service/Activity/Output.
4. What services do you provide? | Service/Activity/Output.
5. What does it cost? | Service/Activity/Output.
6. What does it cost per service delivered? | Service/Activity/Output/Evaluation.
7. What happens to the “subjects” as a result of the service? ² | Outcome
8. What does it cost per outcome? | Outcome and Evaluation.
9. What is the value of the outcome? | Outcome and Evaluation.
10. What is the return on investment? | Evaluation.
¹“The Accountable Agency—How to Evaluate the Effectiveness of Pubic and Private Programs,” Reginald Carter, ISBN Number 9780978724924.
²The subject can be a client or a unit, such as a building, and is defined in its associated unit of service.

As a result of this training, each program has developed specific Program Management Evaluation Questions tailored to the statutory purpose of each of their programs. Each program NOFA will require applicants to address these questions based upon the Carter-Richmond Methodology in their reports to HUD. The program NOFAs will identify the particular questions to be addressed that relate to the statutory purpose and intent of each program.

Training on HUD's logic model and on the reporting requirements for addressing the Program Management Evaluation Questions will be provided via satellite broadcast. The training will also provide examples of how to construct the logic model using the drop-down lists in the eLogic Model.™ Training materials and the dates for the training will be on HUD's Web site at http://www.hud.gov/offices/adm/grants/fundsavail.cfm, shortly after publication of the SuperNOFA. In addition, each program NOFA broadcast will address the specific questions and reporting requirements for the program.

Applicants should submit the completed logic model as an attachment to their application, in accordance with the directions in the program NOFA for addressing the factors for award. Each program NOFA will identify if it requires the factors for award, including the logic model that is required as part of the application submission, to be submitted as a single attached file or as separate files. Please follow the program NOFA directions. Applicants must submit the Logic Model in the Microsoft Excel format provided. DO NOT convert the file to PDF format.

After being selected for funding and awarded funds, grantees will be required to submit a completed form HUD-96010, Logic Model, indicating results achieved against the proposed output(s) and proposed outcome(s) stated in the grantee's approved application and agreed to by HUD. The logic model and required management questions must be submitted to HUD in accord with the reporting periods identified in each program NOFA for providing reports to HUD.

7. Use of Form HUD-27061, Race and Ethnic Data Reporting Form, to Report Race and Ethnicity Data for Beneficiaries of HUD Programs. HUD requires grantees that provide HUD program benefits to individuals or families to report data on the race and ethnicity of those receiving such benefits. Grantees that provide benefits to individuals during the period of performance, whether directly, through subrecipients, or through contractual arrangements, must report the data using form HUD-27061, Race and Ethnic Data Reporting Form, on Grants.gov. The form is a data collection based on the standards published by OMB on August 13, 2002. The individual program NOFAs will identify applicable reporting requirements related to each program. Applicants reporting to HUD using an online system can use that system to meet this requirement, provided the data elements and reports derived from the system are equivalent to the data collection in the form HUD-27061.

8. Frequency of Reports and Data Consistency.

a. Logic Model Reporting. When submitting eLogic Model™ reports on a quarterly or semi-annual basis, each report should show the results that occurred during that reporting period. All final reports should provide a final eLogic Model™ performance for the entire period of the award.

b. Race and Ethnic Data Report. When submitting the Race and Ethnic Data Reporting Form (HUD-27061) on a quarterly or semi-annual basis, each reporting period should show the results that occurred during the performance period for all active clients. If a multi-year program is funded, then each annual report should show results that occurred during that performance year for all active clients. A final form HUD-27061 should show results for all active clients for the entire period of performance.

VII. Agency Contact(s)

The individual program NOFAs will identify the applicable agency contacts related to each program. Questions regarding this notice should be directed to the NOFA Information Center between the hours of 10 a.m. and 6:30 p.m. eastern time at (800) HUD-8929. Persons with hearing or speech impairments may access this number via TTY by calling the Federal Information Relay Service at (800) 877-8339. (These are toll-free numbers.) Questions regarding specific program requirements should be directed to the agency contacts identified in each program NOFA.

VIII. Other Information

A. Grants.gov and Public Law 106-107 Streamlining Activities

The Federal Financial Assistance Management Improvement Act of 1999 (Pub. L. 106-107) directs each federal agency to develop and implement a plan that, among other things, streamlines and simplifies the application, administrative, and reporting procedures for federal financial assistance programs administered by the agency. This law also requires the Director of OMB to direct, coordinate, and assist federal agencies in establishing: (1) a common application and reporting system and (2) an interagency process for addressing ways to streamline and simplify federal financial assistance application and administrative procedures as well as reporting requirements for program applicants. Over the last several years, the Public Law 106-107 work groups have been engaged in various streamlining activities that are now being shared with the grantee community for their input prior to being implemented across the federal government. Applicants and grantees are urged to participate in the listening tour broadcasts sponsored by the Grants Policy Council and the Public Law 106-107 work groups and to become familiar with the proposed changes to simplify requirements at http://www.grants.gov/aboutgrants/streamlining_initiatives.jsp.

B. Grants.gov

The first segment of the Grants.gov initiative focuses on allowing the public to easily FIND competitive funding opportunities and then APPLY via Grants.gov. HUD posted all of its funding opportunities on http://www.grants.gov/applicants/find_grant_opportunities.jsp in FY2004, with the exception of Continuum of Care, and in FY2005 placed all applications on http://www.Grants.gov/Apply, with the exception Continuum of Care. In addition, Grants.gov is working with the federal agencies to begin the process of accepting mandatory and formula grant program plans and application submissions online via Grants.gov. Applicants for HUD's formula and competitive programs are urged to become familiar with the Grants.gov site, registration procedures, and electronic submissions so that as the site is expanded, you will be registered and familiar with the find-and-apply functionality. The Grants.gov Internet address for Finding Grant Opportunities is http://www.grants.gov/applicants/find_grant_opportunities.jsp. The Grants.gov Internet address for Applying for Grant Opportunities is http://www.grants.gov/applicants/apply_for_grants.jsp.

C. HUD-IRS Memorandum of Agreement

HUD and the IRS have entered into a memorandum of agreement to provide information to HUD grantees serving low-income, disabled, and elderly persons, as well as persons with limited English proficiency, on the availability of low-income housing tax credits, the earned income tax credit, individual development accounts, child tax credits, and the IRS Voluntary Income Tax Assistance program. HUD is making available on its website information on these IRS asset-building resources. HUD encourages you to visit the site and disseminate this information to low-income residents in your community and other organizations that serve low-income residents, so that eligible individuals can take advantage of these resources.

D. Paperwork Reduction Act Statement

The information collection requirements in this notice have been approved by OMB under the Paperwork Reduction Act of 1995 (44 U.S.C. 3501-3520). In accordance with the Paperwork Reduction Act, HUD may not conduct or sponsor, and a person is not required to respond to, a collection of information unless the collection displays a valid OMB control number. Each program NOFA will identify its applicable OMB control number.

E. Environmental Impact

A Finding of No Significant Impact with respect to the environment has been made for this notice, in accordance with HUD regulations at 24 CFR part 50 that implement Section 102(2)(C) of the National Environmental Policy Act of 1969 (42 U.S.C. 4332(2)(C)). The Finding of No Significant Impact is available for public inspection between 8 a.m. and 5 p.m. eastern time, Monday through Friday, except federal holidays, in the Office of the General Counsel, Regulations Division, Department of Housing and Urban Development, 451 Seventh Street, SW., Room 10276, Washington, DC 20410-0500.

F. Executive Orders and Congressional Intent

1. Executive Order 13132, Federalism. Executive Order 13132 prohibits, to the extent practicable and permitted by law, an agency from promulgating policies that have federalism implications and either impose substantial direct compliance costs on state and local governments and are not required by statute, or preempt state law, unless the relevant requirements of Section 6 of the executive order are met. This notice does not have federalism implications and does not impose substantial direct compliance costs on state and local governments or preempt state law within the meaning of the executive order.

2. American-made Products. Sections 708 and 709 of the Transportation, Treasury, Housing and Urban Development, the Judiciary, and Independent Agencies Appropriations Act, 2006 (Pub. L. 109-115; approved Nov. 30, 2005) states that, to the greatest extent practicable, all equipment and products purchased with funds made available should be made in the United States.

G. Public Access, Documentation, and Disclosure

Section 102 of the Department of Housing and Urban Development Reform Act of 1989 (HUD Reform Act) (42 U.S.C. 3545) and the regulations codified at 24 CFR part 4, subpart A, contain a number of provisions that are designed to ensure greater accountability and integrity in the provision of certain types of assistance administered by HUD. On January 14, 1992, HUD published a notice that also provides information on the implementation of Section 102 (57 FR 1942). The documentation, public access, and disclosure requirements of Section 102 apply to assistance awarded under individual NOFAs published as part of HUD's SuperNOFA or thereafter, as described below.

1. Documentation, Public Access, and Disclosure Requirements. HUD will ensure that documentation and other information regarding each application submitted pursuant to its FY2007 NOFAs, whether published in the 2007 SuperNOFA or in NOFAs published thereafter, are sufficient to indicate the basis upon which assistance was provided or denied. This material, including any letters of support, will be made available for public inspection for a 5-year period beginning not less than 30 days after the award of the assistance. Material will be made available in accordance with the Freedom of Information Act (5 U.S.C. 552) and HUD's implementing regulations (24 CFR part 15).

2. Form HUD-2880, “Applicant/Recipient Disclosure/Update Report” (“HUD Applicant Recipient Disclosure Report” on Grants.gov). HUD will also make available to the public for 5 years all applicant disclosure reports (form HUD-2880) submitted in connection with an FY2007 NOFA. Update reports (also reported on form HUD-2880) will be made available along with the applicant disclosure reports, but in no case for a period of less than 3 years. All reports, both applicant disclosures and updates, will be made available in accordance with the Freedom of Information Act (5 U.S.C. 552) and HUD's implementing regulations (24 CFR part 5).

3. Publication of Recipients of HUD Funding. HUD's regulations at 24 CFR part 4 provide that HUD will publish a notice in the Federal Register to notify the public of all funding decisions made by the Department to provide:

a. Assistance subject to Section 102(a) of the HUD Reform Act; and

b. Assistance provided through grants or cooperative agreements on a discretionary (non-formula, non-demand) noncompetitive basis.

H. Section 103 of the HUD Reform Act

HUD's regulations implementing Section 103 of the HUD Reform Act, codified at 24 CFR part 4, subpart B, apply to this funding competition. The regulations continue to apply until the announcement of the selection of successful applicants. HUD employees involved in the review of applications and in the making of funding decisions are prohibited by the regulations from providing advance information to any person (other than an authorized employee of HUD) concerning funding decisions or from otherwise giving any applicant an unfair competitive advantage. Persons who apply for assistance should confine their inquiries to the subject areas permitted under 24 CFR part 4.

Applicants or employees who have ethics-related questions should contact the HUD Ethics Law Division at (202) 708-3815 (this is not a toll-free number). The toll-free TTY number for persons with speech or hearing impairments is (800) 877-8339. HUD employees who have specific program questions should contact the appropriate field office counsel or Headquarters counsel for the program to which the question pertains.

[FR Doc. 07-131 Filed 1-17-07; 8:45 am]

BILLING CODE 4210-67-P